DEPARTMENT OF EDUCATION

34 CFR Chapter II

DEPARTMENT OF HEALTH AND HUMAN SERVICES

45 CFR Subtitle A

RIN 1810-AB18

[Docket ID ED-2013-OESE-0046]

Final Priorities, Requirements, Definitions, and Selection Criteria; Race to the Top—Early Learning Challenge

AGENCY: Department of Education and Department of Health and Human Services.

ACTION: Final priorities, requirements, definitions, and selection criteria.

[CFDA Number: 84.412A.]

SUMMARY: The Secretary of Education and the Secretary of Health and Human Services (hereafter “the Secretaries”) announce priorities, requirements, definitions, and selection criteria for the Race to the Top—Early Learning Challenge (RTT-ELC) program. The Secretaries may use one or more of these priorities, requirements, definitions, and selection criteria for competitions in fiscal year (FY) 2013 and later years.

The U.S. Department of Education (ED) and the U.S. Department of Health and Human Services (HHS) (collectively, “the Departments”) conducted the first competition under the RTT-ELC program in FY 2011 and awarded grants to nine States. In FY 2012, the Departments funded the five next highest-rated applicants on the slate of high-scoring applications from the FY 2011 competition.

In order to maintain the overall purpose and structure of the FY 2011 RTT-ELC competition in future competitions, these final priorities, requirements, definitions, and selection criteria are almost identical to the ones used in the FY 2011 competition, with the exception of small language clarifications and eight substantive changes from the prior competition.

DATES: These priorities, requirements, definitions, and selection criteria are effective September 30, 2013.

FOR FURTHER INFORMATION CONTACT: Miriam Lund. Telephone: (202) 401-2871 or by email: miriam.lund@ed.gov.

If you use a telecommunications device for the deaf (TDD) or a text telephone (TTY), call the Federal Relay Service (FRS), toll free, at 1-800-877-8339.

SUPPLEMENTARY INFORMATION:

Executive Summary

Purpose of This Regulatory Action: The purpose of this document is to announce final priorities, requirements, definitions, and selection criteria for the RTT-ELC program that will enable effective grant making and result in high-quality proposals from States.

Summary of the Major Provisions of this Regulatory Action: In this document, we establish final priorities, requirements, definitions, and selection criteria that are almost identical to those we used in the FY 2011 competition with the exception of small language clarifications and eight substantive changes from the prior competition.

Costs and Benefits: The Secretary believes that the costs imposed on applicants by these priorities, requirements, definitions, and selection criteria are limited to paperwork burden related to preparing an application and the benefits of implementing them would outweigh any costs to applicants. The costs of carrying out activities will be paid for with RTT-ELC grant funds. Thus, the costs of implementation would not be a burden for any eligible applicants, including small entities. Please refer to the Regulatory Impact Analysis in this document for a more complete discussion of the costs and benefits of this regulatory action.

This document provides an accounting statement that estimates that approximately $280 million will transfer from the Federal Government to States under this program. Please refer to the accounting statement in this document for a more detailed discussion.

Purpose of Program: The purpose of the RTT-ELC program is to improve the quality of early learning and development and close the educational gaps for children with high needs. This program focuses on improving early learning and development for young children by supporting States' efforts to increase the number and percentage of low-income and disadvantaged children, in each age group of infants, toddlers, and preschoolers, who are enrolled in high-quality early learning and development programs; and to design and implement an integrated system of high-quality early learning and development programs and services.

Program Authority: Sections 14005 and 14006 of the American Recovery and Reinvestment Act of 2009 (ARRA) (Pub. L. 111-5), as amended by section 1832(b) of Division B of the Department of Defense and Full-Year Continuing Appropriations Act, 2011 (Pub. L. 112-10), and the Department of Education Appropriations Act, 2012 (Title III of Division F of Pub. L. 112-74, the Consolidated Appropriations Act, 2012).

We published a notice of proposed priorities, requirements, definitions, and selection criteria (NPP) for this program in the Federal Register on May 20, 2013 (78 FR 29500). That notice contained background information and our reasons for proposing the particular priorities, requirements, definitions, and selection criteria for the RTT-ELC program.

In response to comments received on the NPP, we have made the following changes. These changes are described in greater detail below in the Analysis of Comments and Changes section.

• We clarified that the professional development programs described in Priority 4 include other educators, such as administrators and related personnel, rather than just teachers.

• We added a priority, Priority 5, to allow States to describe strategies for addressing the unique needs of rural populations in their States.

• We added language to the definition of Kindergarten Entry Assessment ¹ (KEA) indicating that a KEA must not be used as a single measure for high-stakes decision-making.

¹ Defined terms are used throughout the notice and are indicated by capitalization.

• We added a request for data on participation of children to be disaggregated by race and ethnicity to selection criterion (A)(1).

• We amended the list of potential stakeholders in selection criterion (A)(3)(c)(2) to include public television stations.

• We included language on supporting the social and emotional development of children in paragraph (c) of Priority 4 and selection criterion (C)(3)(e).

• We included language that supports soliciting and using parental input on children's needs and abilities in educational decision making in the definition of KEA and selection criterion (C)(2)(d) and (e).

• We added language relating to building family capacity to support children's learning and to build protective factors to paragraphs (b) and (e) in Priority 4, the definitions of KEA, Program Standards, and Workforce Knowledge and Competency Frameworks, selection criterion (C)(1) through (4), and selection criterion (E)(2)(d).

Public Comment: In response to our invitation in the NPP, 36 parties submitted comments on the proposed priorities, requirements, definitions, and selection criteria. In the following section, we summarize and provide responses to the comments we received. We group major issues addressed in these comments according to subject. Generally, we do not address technical and other minor changes. In addition we do not address comments that raised concerns not directly related to the proposed priorities, requirements, definitions, and selection criteria.

Analysis of Comments and Changes: An analysis of the comments and any changes in the priorities, requirements, definitions, and selection criteria since publication of the NPP follows.

Infant-Early Childhood Mental Health

Comment: One commenter proposed adding a definition of “infant-early childhood mental health consultation” and using this term throughout the selection criteria and priorities. The commenter also proposed additional language relating to supporting children's social and emotional development, including infant-early childhood mental health, in selection criteria (A)(2), B(1), (C)(3), and (D)(2), and Priorities 1 and 4.

Discussion: The Departments agree that supporting infant-early childhood mental health is an important concern. However, we decline to specifically define the term “infant-early childhood mental health consultation” as approaches to addressing infant-early childhood mental health may vary across States, and we do not wish to restrict how States might explore supporting mental health issues in infants and children.

In selection criteria (A)(2), (B)(1), and (D)(2) and Priority 1 where this commenter suggested adding language relating to supporting children's social and emotional development, including infant-early childhood mental health, the Departments believe that such additions are unnecessary and overly specific in the context of the criteria and priorities, which are intended to be broader and already include social and emotional development, which includes infant-child mental health. Specifying one of the Essential Domains of School Readiness would suggest that this domain is more important than the others. We believe that all the domains are essential and do not wish to emphasize one domain over others.

In selection criterion (C)(3), however, the Departments believe it is appropriate to add the suggested language relating to developing a comprehensive approach to addressing infant-early childhood mental health, because this selection criterion addresses the health, behavioral, and developmental needs of Children with High Needs, and the language will not be overly prescriptive or too specific in the context of the selection criterion. Similarly, the Departments believe it is appropriate to add the suggested language to paragraph (c) of Priority 4, which notes that professional development for Early Childhood Educators includes strategies addressing the needs of children experiencing social and emotional challenges. Accordingly, we are revising selection criterion (C)(3) and paragraph (c) of Priority 4.

Changes: We have added a new paragraph (e) to selection criterion (C)(3) to include developing a comprehensive approach to increasing the capacity of Early Learning and Development Programs to support and address infant-early childhood mental health, and paragraph (c) of Priority 4 to include professional development on addressing the needs of children experiencing social and emotional challenges.

Inclusion of Programs Under Parts B and C of the Individuals With Disabilities Education Act (IDEA)

Comment: Several commenters suggested that the RTT-ELC program should provide for greater inclusion of programs serving children under Part B, Section 619, and Part C of IDEA in the implementation of the grant. For example, they proposed that the definition of Program Standards reference programs serving infants and toddlers and their families, including programs under Part C of IDEA.

Discussion: The Departments support the commenters' suggestion that IDEA Part B section 619 and Part C programs should be integrated into grant activities. However, we do not believe anything in these priorities, requirements, definitions, and selection criteria prevents such integration. In fact, programs funded under Parts B and C of IDEA are referenced throughout the priorities, definitions, and selection criteria. Regarding the proposed change to the definition of Program Standards, this definition is not intended to identify the specific populations served under RTT-ELC. Rather, this definition applies to all of the children served under RTT-ELC and their families, which includes infants and toddlers, including children served under IDEA Part C. We have addressed more specific comments related to this issue in other parts of this notice.

Changes: None.

Comment: Several commenters noted their appreciation for the requirement that State agency coordinators from both Part B section 619 and Part C of IDEA be included on the State Advisory Council. They further recommended that the requirement to have memoranda of understanding (MOU) from each Participating State Agency (PSA) include requirements that all State partners, including the agency or agencies administering IDEA Parts B and C, be included in the implementation of grant activities and project leadership. In addition, the commenters recommended that we require each PSA to coordinate early learning efforts with the other State partners and the project leadership and to report to the Departments periodically on the implementation of all partnership efforts.

Discussion: To be eligible to apply for an RTT-ELC grant, a State must submit a binding MOU that describes each PSA's level of participation in the grant. The State agency or agencies administering Part B section 619 and Part C of IDEA must be included as a PSA. The MOU must include a preliminary scope of work that describes the portions of the grant the PSA will administer. Selection criterion (A)(3) describes how the applicant will be scored based on the extent to which the MOU includes terms and conditions that reflect a strong commitment to the State Plan, including terms and conditions designed to align and leverage the PSA's existing funding to support the State Plan, terms that require PSAs to implement all applicable portions of the State Plan, and a description of efforts to maximize the number of Early Learning and Development Programs that become Participating Programs.

Additionally, through the Departments' administration and monitoring of RTT-ELC grants, States are required to report regularly to the Departments on the status of their partnership efforts, as we consider this integral to the success of the program. We believe that these requirements and criteria, and the Departments' monitoring of grantees, address the concerns of the commenters. Further, we believe that it would be overly prescriptive to limit the flexibility of each State to determine the most productive role of each PSA.

Changes: None.

Comprehensive Assessment Systems

Comment: Several commenters suggested that the Departments place greater emphasis on how early learning assessments can inform instruction and track children's development across the birth to third grade continuum. These commenters stated that the use of assessment data in kindergarten has been overemphasized and that more emphasis should be placed on using early assessment before kindergarten. In addition, these commenters recommended that there be stronger emphasis on sharing assessment data and results with families and on soliciting and using family input on children's development and needs.

Discussion: The definition of Comprehensive Assessment System states that it is a system of assessments “that organizes information about the process and context of young children's learning and development in order to help Early Childhood Educators make informed instructional and programmatic decisions.” The Departments believe that this definition, which is specific to programs serving children from birth to kindergarten entry, already places a strong emphasis on the use of assessments to measure children's development and inform instruction in the years before kindergarten.

Family engagement strategies are similarly emphasized throughout the priorities, requirements, definitions, and selection criteria. As an example, the definition of Program Standards now includes culturally and linguistically responsive strategies to engage families and strengthen their capacity to support children's learning and development. Selection criterion (C)(4) also refers to culturally and linguistically appropriate information and support of families of Children with High Needs and increasing the number and percentage of Early Childhood Educators trained and supported to implement family engagement strategies. However, the commenter is correct that the selection criterion does not explicitly encourage States to include a mechanism for soliciting and using family input in their assessment strategies. Accordingly, we are revising selection criterion (C)(2) to include training for Early Childhood Educators to effectively solicit and use family input on children's development and needs.

Changes: We have revised selection criterion (C)(2)(d) and added paragraph (C)(2)(e) to include soliciting and using family input on children's development and needs as part of training on Comprehensive Assessment Systems.

Comment: Several commenters recommended that the KEA be viewed as a midway point and critical link between States' Comprehensive Assessment Systems and K-12 assessment systems. These commenters recommended that the KEA be administered at the end of the year before kindergarten as well as in early kindergarten and, for that reason, recommended including KEA in our definition of Comprehensive Assessment System, which applies to assessments administered between birth through kindergarten entry.

Discussion: The Departments agree that the KEA should be viewed as a midway point and critical link between Comprehensive Assessment Systems and K-12 systems. We have defined a KEA as an assessment that is administered to children during the first few months of their admission into kindergarten and used to inform efforts to close the school readiness gap at kindergarten entry and inform instruction in the early elementary grades. While there are many valid reasons to administer assessments in the year before kindergarten entry, the Departments do not believe the KEA should be administered at the end of the year before kindergarten, because the KEA is meant to be a measure of the status of children's learning at kindergarten entry, not a measure of growth. Assessments should be used in preschool to inform instruction and a child's transition to kindergarten. However, the definition of Comprehensive Assessment System applies to the use of assessments in Early Learning and Development Programs for children from birth through kindergarten entry. Because the KEA is administered during the first few months of kindergarten, the KEA falls outside of this period. In addition, we want States to have the flexibility to address Focused Investment Area (C)(2), “Supporting effective uses of Comprehensive Assessment Systems,” even if the State does not choose to address Focused Investment Area (E)(1), which relates to developing and implementing a KEA. Therefore, we do not believe KEA should be included in the definition of a Comprehensive Assessment System.

Changes: None.

Other General Comments

Comment: One commenter recommended that we require significant involvement by local educational agencies (LEAs) in the development of the application and the implementation of the grant.

Discussion: The Departments seek to improve the quality of early learning and development by supporting State efforts to build strong systems that will provide increased access to high-quality programs for children who need them most. LEAs are not included in the list of entities required to participate in the implementation of the grant because the emphasis of the program is on developing and strengthening State systems of early learning and development. However, RTT-ELC allows each applicant the flexibility to involve LEAs and other entities in application planning and grant implementation in ways they deem appropriate. To require participation of LEAs would require that the Departments define which LEAs must be included and what type of participation must be established, and we believe this would be burdensome and overly restrictive for applicants.

Changes: None.

Comment: Some commenters expressed the concern that small, rural States have unique challenges in improving the quality of early learning and development opportunities and encouraged the Departments to provide reviewers with the flexibility to acknowledge States that propose innovative approaches to tackle these challenges and award points accordingly.

Discussion: According to the National Center for Education Statistics, the currently funded RTT-ELC States serve almost one-third of the Nation's children enrolled in public schools in rural areas (29 percent).² However, these data also indicate that we are not funding some of the States that have the highest percentages of children living in rural areas within a State.

² U.S. Department of Education, National Center for Education Statistics, Common Core of Data, “Public Elementary/Secondary School Universe Survey,” 2010-11 (version 2a).

To address this concern, we are adding a priority that will allow States to describe how they are addressing the unique needs of children living in rural areas. Applicants may address this priority by describing innovative approaches that are likely to close educational and opportunity gaps between Children with High Needs and their peers, provide increased access to high-quality Early Learning and Development Programs, and build stronger State systems of early learning and development in such areas. This priority will not only enable reviewers to acknowledge the unique needs and innovative strategies of States with rural populations, but it will further enable States receiving awards to expend grant funds on these efforts.

Finally, to address any perceived inequalities in the application process itself, the Departments will offer all States technical assistance on completing the application live via the Internet and through recorded sessions on our Web site.

Changes: We have added a priority to allow States to describe strategies to meet the unique needs of children in rural areas. We have chosen, in the notice inviting applications published elsewhere in this issue of the Federal Register, to make this new priority a Competitive Preference Priority. For the sake of clarity, we have called it Priority 5 so it can be grouped with the other Competitive Preference Priorities in the notice inviting applications. What we originally proposed as Priority 5, Encouraging Private-Sector Support, is now renumbered as Priority 6.

Comment: One commenter stated that there was insufficient emphasis on program evaluation in the priorities, requirements, and selection criteria and that the Departments should allocate funds for cross-State evaluation of RTT-ELC grants.

Discussion: The Departments have allocated funds for cross-State evaluation activities; however, the amount of funds available for technical assistance and evaluation is limited to five percent of the annual appropriation by the program's authorizing legislation. The program requirements provide that grantees must comply with the requirements of any evaluation sponsored by ED or HHS of any of the State's activities carried out with the grant, including cross-State evaluation. Furthermore, the Departments encourage grantees, through technical assistance and other guidance, to work together in their evaluation efforts. We believe that these efforts will ensure sufficient evaluation and therefore make no changes in this area.

Changes: None.

Comment: One commenter suggested that the program prioritize racial and economic diversity in early learning environments.

Discussion: We agree with the commenter about the importance of racially and economically diverse early learning environments. However, we decline to shift the emphasis of the program away from increasing access to high-quality Early Learning and Development Programs for Children with High Needs. While we do not specifically address racially and economically diverse learning environments, the priorities, definitions, and selection criteria allow States to identify children who are from Low-Income families or otherwise in need of special assistance and support, under the definition of Children with High Needs. This gives States the flexibility to address racially and economically diverse early learning environments in a way that is appropriate to individual States' needs.

Changes: None.

Comment: One commenter suggested that the priorities and selection criteria should prioritize States with the largest numbers and percentages of Children with High Needs and reduce the emphasis on States that have made the most progress in early learning reform efforts.

Discussion: The Departments appreciate the concern raised by this commenter. However, the emphasis of this program on States that have made significant progress in early learning reform was carefully determined and permits us to fund States to serve as models for other States throughout the Nation. The commenter is suggesting a major change in the focus and scoring of this program. We decline to make a change of this scope, as we believe that by remaining consistent with the FY 2011 competition, the quality of applications will improve, as applicants will be able to learn from past applications, peer reviewer comments, and other aligned resources. Future early learning initiatives, such as the Preschool for All proposal, will emphasize funding States to serve all children from low- to moderate-income families.

Changes: None.

Comment: One commenter suggested that we streamline the data tables required by the selection criteria to reduce burden on applicants and to provide more meaningful, comparable data across States.

Discussion: The Departments have carefully considered whether to streamline data tables to reduce burden and provide more meaningful, comparable data. However, we have determined that the data requested in the tables are important to measure the different activities and populations addressed by this program. Furthermore, we believe it is important in this program to maintain consistency with the FY 2011 application in order to maximize applicants' ability to utilize past applications, peer reviewer comments, and other aligned resources. Additionally, we want to maximize our ability to compare grantee performance data across cohorts. For these reasons, we decline to streamline the data tables.

Changes: None.

Priority 1: Promoting School Readiness for Children With High Needs

Comment: One commenter suggested that we add language to Priority 1 that would require States to show how they will increase the capacity of Early Learning and Development Programs to support and address the social and emotional development of children from birth to age five.

Discussion: The Departments believe that supporting social and emotional development is already an important objective of this program. In these priorities, definitions, and selection criteria, including Priority 1, we have emphasized the importance of addressing all the Essential Domains of School Readiness, including social and emotional development. We believe that all the domains are essential and do not wish to emphasize one domain over others. Accordingly, we have made no change to this priority.

Changes: None.

Comment: One commenter asked that Priority 1 require States to describe how they will make strategic improvements in preventing childhood lead poisoning to reduce the number of Children with High Needs.

Discussion: Priority 1 addresses the comprehensive nature of the program and is not designed to identify specific learning, development, or health concerns. That said, we note that preventing child lead poisoning as well as other children's health concerns are embedded throughout the priorities and selection criteria, including in our definition of Essential Domains of School Readiness, which includes physical well-being, and our definition of Program Standards, which includes health promotion practices. Accordingly, the Departments decline to include a specific reference to lead poisoning prevention in Priority 1. There is no prohibition on applicants addressing specific health concerns, such as lead poisoning, in their applications as they deem appropriate.

Changes: None.

Priority 2: Including All Early Learning and Development Programs in the Tiered Quality Rating and Improvement System (TQRIS)

Comment: One commenter recommended that Priority 2 include improving readiness skills for children at risk of reading failure as a required element of the State Plan and that evidence-based literacy instruction should be addressed in the State's TQRIS. The commenter further recommended that States be allowed to use RTT-ELC funds to support developmentally appropriate comprehensive literacy programs and programs that provide differentiated instruction for Children with High Needs.

Discussion: Although the Departments recognize that improving reading readiness skills for children at risk of reading failure is important, Priority 2 focuses on increasing the number of children in programs that are licensed and inspected and participating in the State's TQRIS. However, a number of selection criteria address literacy skills for children at risk. For example, in selection criterion (C)(1)(b), States are asked to describe their plan to put in place K-3 academic standards that address early literacy and mathematics. In addition, Priority 4 allows States to describe their High-Quality Plan to improve the overall quality, alignment, and continuity of teaching and learning to serve Children with High Needs through such activities as efforts designed to increase the percentage of children who are able to read and do mathematics at grade level by the end of the third grade. This would permit States to provide developmentally appropriate comprehensive literacy programs and programs that provide differentiated instruction. Thus, we do not believe any change is necessary.

Changes: None.

Comment: Several commenters expressed concerns that Priority 2 forces States to mandate the licensure and participation of private, faith-based early learning programs in the State's TQRIS. One noted that many States do not exempt private, faith-based providers from their licensure systems and suggested that the Departments clarify that any licensure and improvement systems be targeted towards only publicly funded early learning providers and indicate that all States are free to exempt private providers from such programs. Another commenter stated that Priority 2 punishes States that choose not to license or regulate faith-based providers. According to this commenter, some States exempt religious providers from licensure, yet the providers are still subject to some State regulation, and Priority 2 would require those programs to participate in the State's rating and improvement system.

Discussion: Priority 2 does not require that States license or regulate all Early Learning and Development Programs or require their participation in TQRIS. The priority is designed so that States that exempt faith-based providers from their licensing and inspection systems are not disadvantaged in any way in the scoring of their applications, and States selected for funding are not required to change their approach to faith-based providers. Specifically, Priority 2 indicates that programs exempted for reasons other than the number of children cared for, such as their faith-based status, may be excluded from the licensing and inspection system. Priority 2 asks that only licensed or State-regulated programs participate in TQRIS and does not require license-exempt programs (such as faith-based programs in some States) to participate.

However, in public input sessions conducted in 2011, for which a transcript was posted on the program Web site at http://www2ed.gov/programs/racetothetop-earlylearningchalleng/resources-phase-1.html, private providers and related organizations expressed the concern that private providers should not be excluded from RTT-ELC. To address that concern, the Departments have clarified in Frequently Asked Questions posted on the program Web site at http://www2.ed.gov/programs/racetothetop-earlylearningchallenge/faq.html that private providers are eligible to participate and to receive funds from a State on the same basis as other entities providing early learning services in the State. The Departments have also clarified in Frequently Asked Questions that a private program participating in RTT-ELC retains its independence, autonomy, right of expression, religious character, and authority over governance.

Changes: None.

Priority 3: Understanding the Status of Children's Learning and Development at Kindergarten Entry

Comment: Multiple commenters recommended defining KEA as an assessment that would monitor school readiness at the population level and: (1) Be based on aggregated results of assessments completed by kindergarten teachers; (2) cover all Essential Domains of School Readiness; (3) be administered between three and six months after the beginning of the school year to ensure that teachers have had time to familiarize themselves with their students; (4) be relatively easy to administer, requiring teacher training of no more than one hour and no more than 15 to 20 minutes per child to administer; (5) include student address data so that data can be reported at the census tract level; and (6) provide valid and reliable data. The commenters also suggested a specific instrument, the Early Development Instrument, as one assessment that meets these characteristics.

Discussion: The definition of KEA proposed in the NPP is sufficient for its purpose. It already covers all of the Essential Domains of School Readiness and requires that the KEA is valid and reliable for its intended purposes and for the target populations. The Departments do not want to require that the KEA be based on aggregated results of assessments completed by kindergarten teachers because the KEA is intended to inform efforts to address children's needs early in order to close the school readiness gap at kindergarten entry, inform instruction, and inform parents about their children's status at kindergarten entry and involve them in decisions about their children's education. However, this does not preclude a State from using data in the aggregate as well.

The Departments believe that it is important to administer the KEA during the first few months of children's admission into kindergarten. This allows the KEA to be administered in a period of time when the results could be used to inform efforts to address children's needs early in order to close the school readiness gap at kindergarten entry, inform instruction, and inform parents about their children's status at kindergarten entry and involve them in decisions about their children's education. In addition, an assessment administered between three and six months after the beginning of the school year would be more of a reflection of the child's learning and development during kindergarten, rather than at kindergarten entry. However, there is nothing to prevent the use of formative assessments during this period.

The Departments do not want to be prescriptive in defining KEA design elements, such as ease of administration, teacher training requirements, and length of time to administer. The Departments also do not want to require specific data elements, such as student address data, other than those included in the Essential Data Elements, but this does not preclude States from including additional elements. However, it is important that grantees comply with all applicable privacy laws for this type of data collection.

The Departments do not endorse, recommend, or require applicants to use specific data-gathering instruments (e.g., the Early Development Instrument). Rather, applicants have the flexibility to use the most appropriate data-gathering instruments for the implementation of their programs.

Changes: None.

Comment: One commenter asked that the Departments emphasize that results of a KEA should be used to assist in the design of services, instruction, and activities geared toward preschool and elementary-aged children, not for high-stakes purposes such as sanctions for children, employees, providers, or programs.

Discussion: The proposed definition of KEA states that the assessment should be used to inform efforts to close the school readiness gap at kindergarten entry and to inform instruction in the early elementary school grades. It also states that the assessment should not be used to prevent children's entry into kindergarten. However, it does not explicitly address the use of the assessment for making high-stakes decisions. We have, therefore, added to the KEA definition that a KEA must not be used as a single measure for high-stakes decisions. High-stakes decisions may include, but are not limited to, dismissal of or rewards for staff and closure of programs.

Changes: We have revised the definition of KEA to provide that the KEA must not be used as a single measure for high-stakes decisions.

Priority 4: Creating Preschool Through Third Grade Approaches To Sustain Improved Early Learning Outcomes Through the Early Elementary Grades

Comment: Multiple commenters noted that they appreciated the proposed revisions to Priority 4. They added a recommendation that this priority be elevated to a competitive or absolute priority rather than an invitational priority as it was in FY 2011.

Discussion: The Departments appreciate the recommendation and have considered it in developing the notice inviting applications for the FY 2013 competition. Generally, we designate priority type in a notice inviting application. To do so in a notice of final priority binds the Departments to using the priority in the way specified in subsequent competitions. To preserve future flexibility to adjust priority designations, the Departments are not designating in this notice whether priorities are absolute, competitive preference, or invitational.

Changes: None.

Comment: One commenter suggested that we include in paragraph (c) of Priority 4 a requirement for professional development strategies that include high-quality digital resources.

Discussion: Although the Departments support the provision of professional development through high-quality digital resources, we believe adding this specific requirement would be too prescriptive and that applicants are in the best position to determine the appropriate mechanisms for providing professional development. These priorities, definitions, and selection criteria provide States the opportunity to present professional development through digital content, if they so choose, giving States and programs the flexibility to address their individual professional development needs.

Changes: None.

Comment: One commenter encouraged us to promote in Priority 4 comprehensive joint trainings of Early Childhood Educators, child care providers, and elementary educators, as well as other administrators and related personnel, and to involve families in that process.

Discussion: The Departments agree with the commenter regarding the value of joint trainings for Early Childhood Educators, elementary educators, educational leaders and specialists, and families. Priority 4 addresses the implementation of teacher preparation and professional development programs for educators, including administrators and related personnel, to improve the transition of children across the birth to third grade continuum. However, the Departments believe that the implementation of trainings and the determination of which individuals should participate in those trainings should be left to the discretion of applicants to suit their individual needs. Accordingly, we have made no change.

Changes: None.

Comment: One commenter asked that we eliminate the specific mention of Title I and Title II of the Elementary and Secondary Education Act of 1965, as amended (ESEA), and IDEA Parts B and C from the requirement in paragraph (g) of Priority 4 that applicants leverage other funds, so that LEAs are not put in the position of sacrificing other services and programs for Children with High Needs. The commenter supports a separate funding stream for new early childhood initiatives.

Discussion: We apologize for inadvertently providing two slightly different versions of Priority 4 in the NPP. In the description of changes to Priority 4, we included paragraph (g): “Leveraging existing Federal, State, and local resources, including but not limited to funds received under Title I and Title II of ESEA, as amended, and IDEA.” However, when we listed the proposed priorities in their entirety, Priority 4 had language at the beginning of the priority relating to leveraging resources, without naming specific funding sources, and paragraph (g) was removed. The Departments intended to take comment on the latter version, although we have considered and responded to all comments on this priority.

Although the Departments acknowledge the concern raised by the commenter about reducing funding for other programs serving Children with High Needs, the Departments are not requiring that other services be reduced or eliminated in order to fund this program. In fact, that would undermine one of the goals of this priority, which is to strengthen collaboration across systems. The final version of Priority 4 does require leveraging of funds, but it does not require any specific funding sources, nor does it require specific amounts or the reduction of funds from other programs serving Children with High Needs. Rather, States are asked to describe how they will sustain and build upon early learning outcomes by leveraging existing Federal, State, and local resources. States will have the flexibility to determine how resources are leveraged and from which sources.

Changes: None.

Comment: Several commenters recommended that Priority 4 be revised to include a reference to infants and toddlers in each of the paragraphs, to incorporate transition strategies beginning from birth.

Discussion: Our intention in writing this priority is to sustain and build upon improved child outcomes from birth to age five by focusing on the important transition from preschool to the early elementary grades. The Departments believe that continued alignment, continuity, and coordination of teaching and learning from preschool through the early elementary school years is critical to ensure that children develop the skills, knowledge, and dispositions toward learning they need to be successful in school and in life.

Throughout the RTT-ELC selection criteria, applicants have the opportunity to address transitions across the continuum of birth through kindergarten entry. Therefore, this priority extends the continuum of early learning services to third grade.

We have left the term “preschool” undefined to ensure that States have the flexibility to determine the age at which their strategies to improve alignment and continuity of teaching and learning begins. For these reasons, we have not added references to infants and toddlers in Priority 4. However, we have added language to clarify our intent that Priority 4 is meant to build upon States' High-Quality Plan to improve birth through age five early learning outcomes, and to sustain and extend improved early learning outcomes through the early elementary school years.

Changes: We have revised Priority 4 to add clarifying language that explains that this Priority is intended to build upon States' High-Quality Plan to improve birth through age five early learning outcomes, and to sustain and extend improved early learning outcomes through the early elementary school years.

Comment: Several commenters asked for clarification as to whether the professional development addressed in Priority 4 applies to administrators as well as teachers.

Discussion: The Departments agree that the professional development addressed in Priority 4 should apply to administrators and related personnel as well as teachers.

Changes: We have replaced the term “teachers” with “educators, administrators, and related personnel.”

Comment: One commenter suggested adding language to Priority 4 to emphasize building the capacity of families to address children's developmental and learning needs, including by engaging and informing parents and by helping families build protective factors. Specifically, the commenter recommended adding language to paragraph (b) relating to building parents' capacity to address children's needs; to paragraph (c) to include training on the importance of protective factors and effective parent engagement strategies; to paragraph (d) to include engaging and supporting families; and to paragraph (e) to include informing parents about data systems.

Discussion: The Departments agree that the proposed language is consistent with the overall purposes of the program and further clarifies our intentions. Building the capacity of families to support their children's learning and development is an important element of this program. Further, building protective factors is an important part of that family support. Protective factors are factors that increase the health and well-being of children and families and mitigate risk.³ Research has found that successful interventions must both reduce risk factors and promote protective factors to ensure the well-being of children and families. Accordingly, we are revising paragraphs (b), (c), (d), and (e) of Priority 4.

³ For information and resources about protective factors, see https://www.childwelfare.gov/can/factors/protective.cfm.

Changes: We have revised paragraphs (b), (c), (d), and (e) of Priority 4 to add language relating to building parents' capacity to address children's needs, training on the importance of protective factors and effective parent engagement strategies, engaging and supporting families, and informing parents about data systems.

Comment: One commenter expressed support for the emphasis in Priority 4 on the importance of sustaining and building upon early learning outcomes from preschool through the early elementary school years. The commenter recommended that the activity described in paragraph (b), identifying and addressing health, behavioral, and developmental needs, be required.

Discussion: While the Departments agree as to the importance of addressing health, behavioral, and developmental needs, the activities listed in Priority 4 are optional to allow States the maximum flexibility to tailor their transition strategy to their needs. We decline to identify one activity as a requirement while leaving similarly important activities as optional.

Changes: None.

Priority 6: Encouraging Private-Sector Support

Comment: One commenter recommended that the Departments provide additional details and guidelines on the kinds of private-sector support envisioned by this priority.

Discussion: The Departments believe that there are numerous ways in which the private sector can provide financial and other resources to support the State and its Participating State Agencies or Participating Programs in the implementation of the State Plan, including contributions of funding, expertise, or resources, and collaborations with other States on leveraging and sharing private sector resources. This is an area that can best be determined by each applicant, and we encourage States to think about innovative and effective ways to partner with the private sector. Private-sector support should be described by applicants as whatever best meets their needs.

Changes: None.

Comment: None.

Discussion: As indicated previously, we have re-numbered the priority on encouraging private-sector support to Priority 6.

Changes: Priority 5, as proposed in the NPP, has been re-numbered as Priority 6.

Suggested New Priorities

Comment: One commenter suggested that a new priority be added that would support the expansion of quality early learning programs to poor, disadvantaged, or underserved children and communities, including rural and isolated communities.

Discussion: The priority suggested by this commenter is already addressed throughout the priorities and selection criteria, notably in Priority 1 and in selection criterion (B)(4), Promoting access to high-quality Early Learning and Development Programs for Children with High Needs. Also, the definition of Children with High Needs, which is used throughout the selection criteria and priorities, identifies many of the populations mentioned by the commenter, while also giving States the flexibility to identify other populations in need of additional support. Furthermore, as described earlier in this notice, we have added a priority that that would support States in meeting the unique needs of children residing in rural areas.

Changes: None.

Comment: One commenter suggested that a new priority be added to emphasize the importance of full-day kindergarten.

Discussion: While high-quality, full-day kindergarten may be an effective strategy to improve outcomes for children, particularly for Children with High Needs, we do not believe such a priority is appropriate for this program, given its focus on supporting coordinated early learning and development systems that promote increased access to high-quality early learning programs from birth to kindergarten entry.

Changes: None.

Eligibility, Application, and Program Requirements

Comment: One commenter requested that the Bureau of Indian Education (BIE) be eligible to apply for a grant under this program.

Discussion: The program authority for RTT-ELC in section 14006(a)(2) of the ARRA provides that States are the only eligible entities, and defines the term “State” to mean each of the 50 States, the District of Columbia, and the Commonwealth of Puerto Rico. The Departments recognize the concern of the BIE and other non-eligible entities but have no authority to change the statutory definition of entities eligible to apply for this program.

Changes: None.

Comment: One commenter applauded the eligibility requirement that States have an active Maternal, Infant, and Early Childhood Home Visiting (MIECHV) program. Another commenter suggested that we ask States to identify specific practices that demonstrate alignment of efforts between the State's home visiting and early childhood programs.

Discussion: Asking States to provide the additional information suggested would not be appropriate for an eligibility requirement, as suggested by the commenter, because we use eligibility requirements only to determine whether an applicant may be considered for funding and typically do not evaluate descriptions or plans under such requirements. However, the information suggested can and should be provided under selection criterion (A)(3), Aligning and coordinating early learning and development across the State. Accordingly, we decline to make any changes.

Changes: None.

Comment: One commenter asked whether a non-profit organization is eligible to apply for the grant if it operates the MIECHV program instead of a State agency.

Discussion: Congress made only States eligible to apply for RTT-ELC grants. The MIECHV eligibility requirement should be interpreted to mean that a State may only apply if it has an active MIECHV program in the State, either through the State or through an eligible non-profit organization in compliance with the requirements of the MIECHV program. This will be further clarified in technical assistance provided to applicants.

Changes: None.

Comment: One commenter stated that the language of application requirement (e)(1) is unnecessarily restrictive because it asks that a State submit a budget that shows how it will use funds to increase the number and percentage of Early Learning and Development Programs participating in the State's TQRIS. The commenter suggested removing the language about TQRIS participation because home visiting programs would not necessarily participate in TQRIS.

Discussion: Application requirement (e)(1) requires a State to include a budget that details how the State will use grant funds to achieve targets for increasing the number and percentage of Early Learning and Development Programs participating in the State's TQRIS. The provision mentioned by the commenter would not require a home visiting program to participate in a State's TQRIS, as the commenter seems to believe. TQRIS programs in most States are limited to center or home-based early care and education settings. More importantly, this commenter's suggestion would change the purpose of this requirement from increasing TQRIS participation to simply increasing the number and percentage of early learning programs in a State. Increasing TQRIS participation is one of the primary purposes of this program.

Changes: None.

Comment: Several commenters noted their support for program requirement (a), which requires States to maintain a State Advisory Council (SAC). One commenter urged us to reconsider our decision to make this a program requirement rather than an eligibility requirement, which would require States to demonstrate that they maintain an ongoing SAC to be considered for funding.

Discussion: SAC funds will end this year at different times for different States. The Departments are, therefore, eliminating the eligibility requirement that States have an operational SAC to ensure that all States have the opportunity to apply regardless of whether they currently receive Federal funding to support the SAC. Rather, all States receiving a grant will be required to meet the SAC program requirement, without exception. This treats all States equally because a State that receives a grant will be able to use grant funds to maintain the SAC.

Changes: None.

Comment: Several commenters suggested that we revise the SAC program requirement to include representation from elementary schools to support alignment between early childhood and K-12 systems. Another commenter suggested that we require representation from the State child welfare agency.

Discussion: The SAC program requirement explicitly includes agency representatives who oversee child care work in the States. Under the SAC program requirement, States must include the State's Child Care and Development Fund administrator, State agency coordinators from both Part B section 619 and Part C of IDEA, and State agency representatives responsible for health and mental health. States may choose to include other members, including members from K-12 systems and the State child welfare agency. We also note that under Priority 4, States may demonstrate how they are supporting alignment between Early Learning and Development Programs and K-12 systems.

Changes: None.

Comment: One commenter requested that States be required to include tribal letters of support in their applications, and that tribal consultation in the development of the application be required.

Discussion: The application does not require letters of support or consultation from specific types of stakeholders, so it would not be appropriate to require only tribal letters of support or consultation. We believe that each State should be able to take their specific needs into account in obtaining letters of support or consultation. We do, however, support States consulting with tribal entities where tribal lands exist in the State. We also emphasize stakeholder engagement in numerous sections. For example, selection criterion (A)(3) asks applicants to provide evidence of meaningful stakeholder engagement in the development of the proposal and meaningful stakeholder support for the proposal, and tribes are specifically noted in this criterion. Therefore, we think that the language already addresses the commenters' suggestions and that no changes are necessary.

Changes: None.

Comment: Several commenters suggested specific requirements for the required MOUs that would enhance the involvement of State partners, including IDEA Part B section 619 and Part C programs, in the implementation of the grant. Specifically, the commenters suggested that MOUs be required to describe the ways in which: (1) Each State partner will coordinate efforts with all other partners to maximize Federal and State resources; (2) each State partner, including IDEA Parts B and C programs, will be included in the implementation of grant activities; (3) grant resources will be directed to include all State partners; (4) all partners will be involved in grant leadership and decision making; and (5) the project will evaluate and report to the Departments periodically on the implementation of all partnership efforts.

Discussion: To be eligible to apply for an RTT-ELC grant, a State must submit a binding MOU that describes each PSA's level of participation in the grant. The State agency administering IDEA Parts B and C must be included as a PSA. The MOU must include a preliminary scope of work that describes the portions of the grant the PSA will administer. Selection criterion (A)(3) describes how the applicant will be scored based on the extent to which the MOU includes terms and conditions that reflect a strong commitment to the State Plan, including terms and conditions designed to align and leverage the PSA's existing funding to support the State Plan; terms that require PSAs to implement all applicable portions of the State Plan; and a description of efforts to maximize the number of Early Learning and Development programs that become Participating Programs. We believe that these requirements and criteria address the commenters' concerns. We believe that to be more prescriptive in the manner suggested by the commenters would unnecessarily limit the flexibility of each State to determine the most productive role of each PSA.

Changes: None.

Proposed Definitions

Comment: One commenter suggested that it might be clearer and more straightforward to use a general term such as “federally recognized, evidence-based home visiting models” rather than naming specific funding streams such as “other programs that may deliver early learning and development services in a child's home, such as the MIECHV; Early Head Start; and Part C of IDEA.” Similarly, this commenter suggested adding “federally recognized, evidence-based home visiting models” to the definition of Early Learning Intermediary Organization (ELIO).

Discussion: The Departments do not use the term “federally recognized” home visiting models, although HHS has identified some models as “meeting standards for evidence of effectiveness.” The change suggested by the commenter would be far more restrictive than the language of our proposed definition because it would limit the definition of home-based services to only those that are identified by HHS as evidence based. We intended this definition to include the wide variety of services that might be provided to children in the home and, therefore, decline to make the changes suggested.

Regarding the suggested addition to the definition of ELIO, we believe that the proposed language would be inconsistent with the meaning of the term, which refers to national, statewide, regional, or community-based organizations that represent networks of Early Learning and Development Programs.

Changes: None.

Comment: Several changes were suggested to the definition of Children with High Needs. One commenter suggested that the term “English learner” should be replaced with “Dual Language Learner.” Another commenter suggested that we add a reference to children who are lead poisoned to the definition, because children who are lead poisoned are not always categorized as children with disabilities. A third commenter suggested that the definition should be less broad and should provide for the consideration of factors such as parental education, age, and family structure when determining whether a child meets the definition.

Discussion: The Departments agree with the first commenter that dual language instruction should be supported. However, we believe it is important to maintain a consistent use of terminology across programs, and English learner is the term used in similar programs at ED, such as the Enhanced Assessment Grant (EAG) and Race to the Top—District programs.

Regarding the second comment, the Departments believe that the risks posed by lead poisoning can be adequately addressed by applicants in selection criterion (C)(3). Furthermore, the definition of Children with High Needs includes “other children as identified by the State,” so States can address additional needs as appropriate.

Regarding the third comment, the definition of Children with High Needs includes

children from birth through kindergarten entry who are from Low-Income families or otherwise in need of special assistance and support, including children who have disabilities or developmental delays; who are English learners; who reside on “Indian lands” as that term is defined by section 8013(7) of ESEA; who are migrant, homeless, or in foster care; and other children identified by the State.

This definition allows States to identify other at-risk children and States may consider factors that include education, family structure, disability, language, and parental age. The Departments have deliberately kept this definition broad so that States have the flexibility to address a wide range of children's needs as appropriate for their populations. We therefore decline to limit the definition.

Changes: None.

Comment: One commenter suggested adding to the definitions of KEA, Program Standards, and Workforce Knowledge and Competency Frameworks language relating to family engagement and building children's protective factors that would enhance the capacity of families to support their children's learning and development. The commenter suggested adding language to the definition of KEA relating to informing parents about their children's learning development and involving them in decisions about their children's education. The commenter also suggested revising the definition of Program Standards to require “culturally and linguistically responsive” strategies that are used to help families build protective factors and build their capacity to support children's development and learning. Finally, the commenter suggested adding an additional paragraph to the definition of Workforce Knowledge and Competency Frameworks relating to knowledge of protective factors and effective approaches to building families' capacity to promote children's development and learning.

Discussion: The Departments support the goal of building the capacity of families to support their children's education. The suggested changes to the definitions are consistent with the goals of the program and help to further clarify the definitions and therefore we have made them. The Departments believe that research has demonstrated the importance of family capacity-building and protective factors, so it is appropriate to address those concerns in these priorities, definitions, and selection criteria.

Changes: We have added language to the definition of KEA relating to informing parents about their children's learning development and involving them in decisions about their children's education. We have revised the definition of Program Standards to specify that strategies for engaging families must be culturally and linguistically responsive and that these strategies would include helping families build protective factors and building families' capacity to support children's development and learning. We added a paragraph to the definition of Workforce Knowledge and Competency Frameworks relating to knowledge of protective factors and effective approaches to building families' capacity to promote children's development and learning.

Selection Criterion A: Successful State Systems

Comment: One commenter commended our proposal to require that a State “achieve its ambitious yet achievable targets for increasing the number and percentage of Children with High Needs who are enrolled in Early Learning Programs that are in the top tiers of the State's TQRIS.” The commenter recommended, however, that we revise the selection criteria to require that States, in addition to disaggregating their TQRIS data by socioeconomic status, also disaggregate the TQRIS data by race and ethnicity.

Discussion: We agree with the commenters about the importance of disaggregating data by race and ethnicity and have considered ways to request this data that would not be burdensome to States. We developed a request for data on participation of children by race and ethnicity that is consistent with the other types of data requested and that we believe will not be burdensome. The request does not break down ethnicity within different types of Early Learning and Development Programs, nor does it require a breakdown of race and ethnicity data by program ratings in the TQRIS. Rather, we are asking for data we believe that States will have readily available in their data systems.

Changes: We have revised selection criterion (A)(1) to provide for States to submit data on the participation of children by race and ethnicity in a data table.

Comment: Several commenters requested that the priorities, requirements, definitions, and selection criteria reflect an integrative and collaborative approach among State and local education, health, and human services agencies. Another commenter suggested that we encourage States to review existing Federal grant opportunities and initiatives in their States, consider opportunities for building synergies to improve outcomes for Children with High Needs, and involve agencies implementing other Federal programs in implementation of the grant.

Discussion: We believe the proposed selection criteria address the commenters' concerns. Specifically, selection criterion (A)(3) scores applicants on their proposals for alignment and coordination of early learning and development across the State. Applicants must identify a governance structure that facilitates interagency coordination and builds upon existing early learning structures such as councils and commissions. Furthermore, the required PSAs come from agencies that administer a combination of education, child and maternal health, and human services programs. Finally, applicants must demonstrate commitment and participation of a broad group of stakeholders in the early learning community in selection criterion (A)(3)(c). In our experience working with the current 14 RTT-ELC grantees, these criteria and requirements have resulted in strong collaborative efforts across education, health, and human services agencies at the State level.

Changes: None.

Comment: One commenter inquired whether the Departments had a definition for “significant amount” as used in selection criterion (A)(4)(b)(3)(“demonstrates that a significant amount of funding will be devoted to the local implementation of the State Plan”).

Discussion: The term “significant amount” is not defined because the Departments believe that applicants need the flexibility to describe what constitutes significant in the context of their application and that determining what is a significant amount is a judgment that can be reasonably made by applicants and reviewers. The Departments will also address this in technical assistance provided to applicants and reviewers.

Changes: None.

Comment: One commenter recommended that applicants be required to submit an MOU signed by one or more statewide early learning non-profit organizations to demonstrate that the applicant is building strong relationships with non-profit organizations.

Discussion: As described in selection criterion (A)(3), States will receive points for demonstrating broad stakeholder support, but an MOU is not required. Given that MOUs are already required for all PSAs, we believe that to require an MOU for every relationship between State agencies and non-profit organizations is unnecessarily burdensome and restrictive. State agencies and non-profit organizations may prefer to use other formal or informal mechanisms to memorialize partnerships and support.

Changes: None.

Comment: Several commenters suggested additions to the list of potential stakeholders in selection criterion (A)(3)(c)(2). One commenter recommended that public television stations be added to the list. Another commenter recommended that “State and local Strengthening Families Leadership Teams” and “administrators of State Title V MCH Block Grant Programs” be added to the list.

Discussion: The Departments recognize the role of public television stations as partners in early learning initiatives. While such partnerships remain at the discretion of States, applicants are welcome to seek out such partnerships, and, in fact, some existing RTT-ELC grantees have done so. Because public television stations are entities that applicants might not consider reaching out to or partnering with, we believe they should be added to the list as an illustrative example. However, we think the other two suggestions are too specific for the context of this list, in that they reference specific programs and models. The use of “such other stakeholders as” is intended to allow for any and all other stakeholders as desired by the State.

Changes: We have revised selection criterion (A)(3)(c)(2) to include public television stations in the illustrative list of potential stakeholders.

Comment: Several commenters suggested that we require States to demonstrate whether or not they have cut reimbursement rates for providers in the Child Care Development Fund (CCDF) and describe their commitment to maintaining or increasing provider reimbursement rates in order to ensure sustainability of reform efforts.

Discussion: In its application, a State must demonstrate how it will improve the quality of Early Learning and Development Programs by integrating and aligning resources and policies across PSAs and by designing and implementing a common, statewide TQRIS. In demonstrating “successful state Systems” under selection criterion (A)(1), the State must provide evidence of past commitment to and investment in high-quality, accessible Early Learning and Development Programs, including documentation of the past five years of financial investments, as well as its existing legislation, policies, and practices in this area. Selection criterion (A)(1)(a) specifically requests information on the State's investment in early learning, including State contributions and match for CCDF. In addition, selection criterion (B)(2)(b) asks States to describe how they will implement effective policies and practices designed to help more families afford high-quality child care (e.g., maintaining or increasing subsidy reimbursement rates, or establishing differential or tiered reimbursement rates for higher quality providers).

While States will be evaluated on their prior commitments, including their contributions for CCDF, and their plans to align and leverage other sources of funding, it is not reasonable to demand that States commit to maintaining their current reimbursement rate for CCDF. Many factors go into that decision and it is not within the authority of this program to demand a specific level of commitment under another program. Furthermore, the proposed approach does not address whether rates are sufficient to provide access to high-quality care, which is difficult to measure. A requirement that rates be maintained or increased does not address a State's starting point and could potentially advantage a State that maintains low rates. Furthermore, payment rates are only one aspect of subsidy administration. States can also significantly impact the value of a subsidy and who receives it through their family co-payment and eligibility policies.

Changes: None.

Selection Criterion B: High-Quality, Accountable Programs

Comment: Several commenters recommended revising selection criterion (B)(2) to require States to set a goal of full participation in TQRIS for all licensed or regulated early learning programs in the State.

Discussion: Selection criterion (B)(2) asks States to describe how they will reach the goal of having all publicly funded Early Learning and Development Programs participate in TQRIS, including State-funded preschool programs, Early Head Start and Head Start programs, programs receiving CCDF funds, and programs funded under Parts B and C of IDEA and Title I of ESEA. In contrast, Priority 2 asks States to describe their plans to have all licensed or State-regulated programs participate in their TQRIS, which is more ambitious than requiring participation of all publicly funded programs. The commenters' recommendation would change selection criterion (B)(2) to reflect this more ambitious goal. While we support the goal of having all State-licensed and regulated programs participate in TQRIS, we intended selection criterion (B)(2) to allow States more flexibility to determine ambitious but achievable goals that take into account the status of TQRIS in their State, while giving more ambitious States an opportunity to receive additional points in Priority 2. We believe that this balance provides the greatest flexibility for States while providing incentives to States to establish more ambitious goals for participation in TQRIS. Accordingly, we decline to change this selection criterion in the manner suggested.

Changes: None.

Comment: Several commenters suggested that the Departments make clear that States, in their validation studies as described in selection criterion (B)(5), should examine whether the tiers of TQRIS accurately reflect the differential levels of program quality before researching the relationship between program quality and child outcomes, in order to ensure that validation plans are meaningful and valid in the context of where States are in their development of TQRIS.

Discussion: We think the commenters' concerns are best addressed through technical assistance and guidance from the Departments once awards are made. States that receive grants are required under program requirement (d)(4) to submit their plans for validation to both Departments for review and feedback. This feedback ensures that a State is developing a validation plan that is appropriate for where the State is in its TQRIS development.

Changes: None.

Comment: One commenter asked that the Departments ensure that program standards used by TQRIS are well researched and evidence based and tie directly to the growth and development of children.

Discussion: Selection criterion (B)(1) asks States to demonstrate that their TQRIS have standards that are measurable, meaningfully differentiate program quality levels, and reflect high expectations of program excellence commensurate with national standards that lead to improved learning outcomes for children. This criterion is already consistent with what the commenter is requesting. Technical assistance will be provided to ensure that the validation plans for each State's TQRIS are of the highest quality.

Changes: None.

Comment: One commenter recommended adding language to selection criterion (B)(4) and (B)(5) to encourage States to build on Federal opportunities and draw on promising practices to help families build protective factors and that we emphasize child welfare-early learning partnerships to ensure the developmental needs of young children are met. Specifically, the commenter suggested adding a paragraph to selection criterion (B)(4) to measure the extent to which States have a plan to build early learning and child welfare partnerships to ensure that the developmental needs of young children are met, including coordinating with other federally funded opportunities that help families build protective factors. The commenter also recommended adding language to selection criterion (B)(5) to address whether changes in quality ratings are related to progress in building protective factors, engaging families, and building parent capacity.

Discussion: The Departments believe that the overall purpose of RTT-ELC already encourages States to build on Federal opportunities and promising practices to help families build protective factors. In selection criterion (B)(4), the suggested language is too specific for the context of the criterion, and to add one specific strategy for improving the quality of early learning programs without specifying others would be problematic because we do not intend to prioritize one specific strategy over other possible strategies. In selection criterion (B)(5), we do not believe the TQRIS validation process will allow for States to demonstrate a direct correlation between the suggested items (building protective factors, family engagement, and building parent capacity) and changes in quality ratings.

Changes: None.

Selection Criterion C: Promoting Early Learning and Development Outcomes for Children

Comment: One commenter suggested that a paragraph be added to selection criterion C to address the extent to which a State provides curricula and related content and materials aligned to State standards that are proven effective in improving early literacy and other skills by leveraging existing resources, engaging educators and families, and identifying the appropriate platforms for content, including high-tech digital platforms.

Discussion: Although the Departments support the ideas expressed in this recommendation, this program emphasizes State systems of early learning and development, rather than the development of curricula and the delivery of content. Because curriculum development is not an emphasis of this program, we believe flexibility in this area is best left to the discretion of States and local providers. For that reason, we decline to make the suggested change.

Changes: None.

Comment: One commenter recommended including a section that addresses training Early Childhood Educators in child development and implementation of research-based instructional tools, strategies, programs, and techniques to specifically address the needs of Children with High Needs through developmentally appropriate differentiated instruction.

Discussion: The Departments recognize that training for Early Childhood Educators of Children with High Needs should include training in child development and implementation of research-based instructional tools, strategies, programs, and techniques that include developmentally appropriate differentiated instruction. However, the Departments do not believe a unique section needs to be added to address this request as multiple priorities and selection criteria already address these areas. For example, Priority 4 provides for alignment of kindergarten-through-third-grade standards with States' Early Learning and Development Standards. Selection criteria (A)(2)(a), (B)(1)(a)(1), (B)(4)(2), and (D)(2)(a) and (b) each provide an opportunity for States to discuss how child development knowledge on early learning and development will be linked to training, professional development, and research-based knowledge supporting Children with High Needs.

Changes: None.

Comment: Several commenters asked that we require States to describe how they have enhanced or will enhance early learning standards for English learners to reflect current research on the importance of supporting a child's first language.

Discussion: Selection criterion (C)(1) asks States to describe how, and provide evidence that, its Early Learning and Development Standards are developmentally, culturally, and linguistically appropriate across each age group of infants, toddlers, and preschoolers, and that they cover all Essential Domains of School Readiness. The list of evidence required for selection criterion (C)(1) requests documentation that standards are appropriate for English learners. Although the Departments recognize the importance of supporting a child's first language, we do not believe it is advisable to impose specific requirements on Early Learning and Development Standards relating to English learners that would restrict a State's flexibility in this area.

Changes: None.

Comment: One commenter recommended adding language to the selection criteria that would support family engagement and enhance families' capacity to support children's learning and development. In selection criterion (C)(1)(c), the suggested language would include evidence that Early Learning and Development Standards are shared with families along with appropriate strategies they can use at home to support children's learning and development. In selection criterion (C)(2), the suggested language would require States to work with Early Learning and Development Programs to select appropriate instruments and to identify approaches for soliciting information from parents and articulate guidelines for sharing data with parents and involving parents in educational decision making. In selection criterion (C)(3), the suggested language would involve helping parents to support children's physical, social, and emotional health and to promote healthy eating habits at home. In selection criterion (C)(4), the suggested language relates to helping families build protective factors and adds language about family resource centers, family support networks, and community-based child abuse prevention programs.

Discussion: In general, the addition of the proposed language to selection criterion (C)(1) through (4) is consistent with our intent and the purpose of the program, which includes building the capacity of families to support the early learning and development of Children with High Needs. We are revising the selection criterion accordingly.

Changes: The Departments have revised selection criterion (C)(1)(c) to provide for the applicants to address whether their high-quality Early Learning and Development Plans are shared with parents and families along with suggestions for appropriate strategies they can use at home to support their children's learning and development. We have added paragraph (e) to selection criterion (C)(2) to provide language relating to States' plans to work with programs to select assessment instruments and approaches that are appropriate for soliciting information from families and articulating guidelines for sharing data and involving families in educational decision making. We have revised selection criterion (C)(3) to ask States how they will build families' capacity to support children's physical, social, and emotional health and to promote healthy eating habits at home. We have revised selection criterion (C)(4) to include helping families build protective factors and add language about family resource centers, family support networks, and community-based child abuse prevention programs.

Comment: One commenter stated that selection criterion (C)(3), which relates to health promotion, should be required rather than an optional Focused Investment Area.

Discussion: In 2011, the Departments gave careful consideration to which sections of the selection criteria should be required and which should be optional. While we consider all portions of selection criteria C, D, and E critical to implementing successful early learning reforms, we also recognize that States might not be able to implement all of these areas of the program well. Because we have no basis to single out selection criterion (C)(3) as more important than the other parts of C, D, and E that are also optional, we have chosen to maintain the structure of the Core and Focused Investment Areas.

Changes: None.

Selection Criterion D: A Great Early Childhood Education Workforce

Comment: One commenter expressed concern that RTT-ELC should focus on early childhood program leaders in addition to teachers, and that individuals with leadership responsibilities should have in-service and pre-service requirements that include knowledge of child development and instruction and assessment practices that address the developmental needs of young children. According to the commenter, pre-service and in-service professional development should include knowledge of child development and learning, what is individually appropriate, and what is culturally important.

Discussion: Professional development for individuals with leadership responsibilities is already included throughout the selection criteria. In particular, selection criterion D, which addresses workforce development, applies to Early Childhood Educators, and the definition of Early Childhood Educators explicitly includes administrators, directors, supervisors, and other leaders, in addition to teachers. Furthermore, selection criterion (D)(1) asks States to describe their plan to develop a Workforce Knowledge and Competency Framework that is designed to promote children's learning and development and improve child outcomes, as well as a statewide progression of credentials and degrees aligned with this framework. The definition of a Workforce Knowledge and Competency Framework includes the concepts mentioned by this commenter.

Changes: None.

Comment: One commenter suggested that we add language to selection criterion (D)(1)(c) that would include public television stations with experience providing multiplatform programming and services as a specific professional development provider and that we add language to selection criterion (D)(2) that would require professional development opportunities to be accessible through high-quality multiplatform digital content and services.

Discussion: The Departments believe that these changes are too specific with regard to content delivery and that decisions regarding specific types of providers or content delivery are best left to applicants. That said, nothing in the requirements of this program would prevent grantees from focusing on these areas.

Changes: None.

Comment: One commenter recommended adding language to selection criterion (D)(2)(b) regarding training on differentiated instruction for diverse learners.

Discussion: Selection criterion (D)(2)(b) asks the applicant to describe policies and incentives to promote professional improvement and career advancement in the State's workforce. In selection criterion (D)(2), States are asked to describe a High-Quality Plan that targets Early Childhood Educators' effectiveness in working with Children with High Needs. The Departments recognize that one of many approaches Early Childhood Educators could use with Children with High Needs is differentiated instruction for diverse learners. However, the determination of specific educational strategies is typically made by Early Learning and Development Programs—not by the State.

Changes: None.

Selection Criterion E: Measuring Outcomes and Progress

Comment: One commenter encouraged the Departments to determine benchmark measures to reduce the reliance on assessment at kindergarten entry and provide opportunities for mid-point correction between birth and age five. The commenter further recommended the Departments consider how to support more cross-State development of KEAs.

Discussion: This program supports Comprehensive Assessment Systems that provide many opportunities for formative assessment that can help inform “mid-point correction” strategies as determined by the State for children from birth through age five. The Departments believe it would be overly prescriptive to establish benchmark measures. The commenter's recommendation regarding cross-State development of KEAs is being addressed by ED's FY 2013 EAG program, which will support the development or enhancement of a KEA that is aligned with States' early learning and development standards and that covers all of the Essential Domains of School Readiness. This year's EAG program gives priority to early learning collaborative efforts among States in developing these assessments.

Changes: None.

Comment: One commenter suggested that selection criterion (E)(2)(d) be modified to include language on sharing information with parents and other stakeholders.

Discussion: The Departments agree with the purpose of the suggested modification.

Change: The suggested language has been added to selection criterion (E)(2)(d) to include sharing information on the State's early learning data system with parents and other community stakeholders.

Final Priorities: The Secretaries establish six priorities. The Departments may apply one or more of these priorities in any year in which a competition for program funds is held.

Priority 1: Promoting School Readiness for Children With High Needs

To meet this priority, the State's application must comprehensively and coherently address how the State will build a system that increases the quality of Early Learning and Development Programs for Children with High Needs so that they enter kindergarten ready to succeed.

The State's application must demonstrate how it will improve the quality of Early Learning and Development Programs by integrating and aligning resources and policies across Participating State Agencies and by designing and implementing a common, statewide Tiered Quality Rating and Improvement System. In addition, to achieve the necessary reforms, the State must make strategic improvements in those areas that will most significantly improve program quality and outcomes for Children with High Needs. Therefore, the State must address those criteria from within each of the Focused Investment Areas (sections (C) Promoting Early Learning and Development Outcomes for Children, (D) A Great Early Childhood Education Workforce, and (E) Measuring Outcomes and Progress) that it believes will best prepare its Children with High Needs for kindergarten success.

Priority 2: Including All Early Learning and Development Programs in the Tiered Quality Rating and Improvement System

Priority 2 is designed to increase the number of children from birth to kindergarten entry who are participating in programs that are governed by the State's licensing system and quality standards, with the goal that all licensed or State-regulated programs will participate. The State will meet this priority based on the extent to which the State has in place, or has a High-Quality Plan to implement no later than June 30th of the fourth year of the grant—

(a) A licensing and inspection system that covers all programs that are not otherwise regulated by the State and that regularly care for two or more unrelated children for a fee in a provider setting; provided that if the State exempts programs for reasons other than the number of children cared for, the State may exclude those entities and reviewers will determine whether an applicant has met this priority only on the basis of non-excluded entities; and

(b) A Tiered Quality Rating and Improvement System in which all licensed or State-regulated Early Learning and Development Programs participate.

Priority 3: Understanding the Status of Children's Learning and Development at Kindergarten Entry

To meet this priority, the State must, in its application, address selection criterion (E)(1) and earn a score of at least 70 percent of the maximum points available for that criterion.

Priority 4: Creating Preschool Through Third Grade Approaches To Sustain Improved Early Learning Outcomes Through the Early Elementary Grades

Priority 4 is designed to build upon the State's High-Quality Plan to improve birth through age five early learning outcomes, and to sustain and extend improved early learning outcomes through the early elementary school years, including by leveraging existing Federal, State, and local resources. The State will meet this priority based on the extent to which it describes a High-Quality Plan to improve the overall quality, alignment, and continuity of teaching and learning to serve children from preschool through third grade through such activities as—

(a) Enhancing the State's kindergarten-through-third-grade standards to align them with the State's Early Learning and Development Standards across all Essential Domains of School Readiness;

(b) Identifying and addressing the health, behavioral, and developmental needs of Children with High Needs from preschool through third grade, and building families' capacity to address these needs;

(c) Implementing teacher preparation and professional development programs and strategies that emphasize developmental science and the importance of protective factors, pedagogy, and the delivery of developmentally appropriate content, strategies for identifying and addressing the needs of children experiencing social and emotional challenges, and effective family engagement strategies for educators, administrators, and related personnel serving children from preschool through third grade;

(d) Implementing model systems of collaboration both within and between Early Learning and Development Programs and elementary schools to engage and support families and improve all transitions for children across the birth through third grade continuum;

(e) Building or enhancing data systems to monitor the status of children's learning and development from preschool through third grade to inform families and support student progress in meeting critical educational benchmarks in the early elementary grades; and

(f) Other efforts designed to increase the percentage of children who are able to read and do mathematics at grade level by the end of the third grade.

Priority 5: Addressing the Needs of Children in Rural Areas

The State will meet this priority based on the extent to which it describes:

(a) How it will implement approaches to address the unique needs (e.g., limited access to resources) of children in rural areas, including rural areas with small populations; and

(b) How these approaches are designed to close educational and opportunity gaps for Children with High Needs, increase the number and percentage of Low-Income children who are enrolled in high-quality Early Learning and Development Programs; and enhance the State's integrated system of high-quality early learning programs and services.

Priority 6: Encouraging Private-Sector Support

The State will meet this priority based on the extent to which it describes how the private sector will provide financial and other resources to support the State and its Participating State Agencies or Participating Programs in the implementation of the State Plan.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

I. Eligibility Requirements: The Secretaries establish the following requirements a State must meet in order to be eligible to receive funds under this competition. We may apply one or more of these requirements in any year in which this program is in effect.

States must meet the following requirements:

(a) The State has not previously received an RTT-ELC grant.

(b) The Lead Agency must have executed with each Participating State Agency a memorandum of understanding (MOU) or other binding agreement that the State must attach to its application, describing the Participating State Agency's level of participation in the grant. At a minimum, the MOU or other binding agreement must include an assurance that the Participating State Agency agrees to use, to the extent applicable—

(1) A set of statewide Early Learning and Development Standards;

(2) A set of statewide Program Standards;

(3) A statewide Tiered Quality Rating and Improvement System; and

(4) A statewide Workforce Knowledge and Competency Framework and progression of credentials.

(c) There must be an active Maternal, Infant, and Early Childhood Home Visiting (MIECHV) program in the State, either through the State under section 511(c) of Title V of the Social Security Act, as added by section 2951 of the Affordable Care Act of 2010 (Pub. L. 111-148), or through an eligible non-profit organization under section 511(h)(2)(B).

II. Application Requirements: The Secretaries establish the following application requirements for the application a State would submit for funding under this competition. We may apply one or more of these requirements in any year in which this program is in effect.

Each applicant must meet the following application requirements:

(a) The State's application must be signed by the Governor or an authorized representative; an authorized representative from the Lead Agency; and an authorized representative from each Participating State Agency.

(b) The State must submit a certification from the State Attorney General or an authorized representative that the State's description of, and statements and conclusions in its application concerning, State law, statute, and regulation are complete and accurate and constitute a reasonable interpretation of State law, statute, and regulation.

(c) The State must complete the budget spreadsheets that are provided in the application package and submit the completed spreadsheet as part of its application. These spreadsheets should be included on the CD or DVD that the State submits as its application.

(d) The State must submit preliminary scopes of work for each Participating State Agency as part of the executed MOU or other binding agreement. Each preliminary scope of work must describe the portions of the State's proposed plans that the Participating State Agency is agreeing to implement. If a State is awarded an RTT-ELC grant, the State will have up to 90 days to complete final scopes of work for each Participating State Agency.

(e) The State must include a budget that details how it will use grant funds awarded under this competition, and funds from other Federal, State, private, and local sources to achieve the outcomes of the State Plan (as described in selection criterion (A)(4)(a)), and how the State will use funds awarded under this program to—

(1) Achieve its ambitious yet achievable targets for increasing the number and percentage of Early Learning and Development Programs that are participating in the State's Tiered Quality Rating and Improvement System (as described in selection criterion (B)(2)(c)); and

(2) Achieve its ambitious yet achievable targets for increasing the number and percentage of Children with High Needs who are enrolled in Early Learning and Development Programs that are in the top tiers of the State's Tiered Quality Rating and Improvement System (as described in selection criterion (B)(4)(c)).

(f) The State must provide an overall summary for the State Plan and a rationale for why it has chosen to address the selected criteria in each Focused Investment Area, including--

• How the State's choices build on its progress to date in each Focused Investment Area (as outlined in Tables (A)(1)6-13 and the narrative under (A)(1)); and

• Why these selected criteria will best achieve the State's ambitious yet achievable goals for improving program quality, improving outcomes for Children with High Needs statewide, and closing the educational gaps between Children with High Needs and their peers.

(g) The State, within each Focused Investment Area, must select and address—

• Two or more selection criteria within Focused Investment Area (C) Promoting Early Learning and Development Outcomes for Children; and

• One or more selection criteria within Focused Investment Areas (D) A Great Early Childhood Education Workforce and (E) Measuring Outcomes and Progress.

(h) Where the State is submitting a High-Quality Plan, the State must include in its application a detailed plan that is feasible and includes, but need not be limited to—

(1) The key goals;

(2) The key activities to be undertaken; the rationale for the activities; and, if applicable, where in the State the activities will be initially implemented, and where and how they will be scaled up over time to eventually achieve statewide implementation;

(3) A realistic timeline, including key milestones, for implementing each key activity;

(4) The party or parties responsible for implementing each activity and other key personnel assigned to each activity;

(5) Appropriate financial resources to support successful implementation of the plan;

(6) The information requested as supporting evidence, if any, together with any additional information the State believes will be helpful to peer reviewers in judging the credibility of the plan;

(7) The information requested or required in the performance measures, where applicable;

(8) How the State will address the needs of the different types of Early Learning and Development Programs, if applicable; and

(9) How the State will meet the unique needs of Children with High Needs.

III. Program Requirements: The Secretaries establish the following program requirements for States receiving funds under this competition. We may apply one or more of these requirements in any year in which this program is in effect.

(a) The State must have an operational State Advisory Council on Early Childhood Education and Care that meets the requirements described in section 642B(b) of the Head Start Act (42 U.S.C. 9837(b)). In addition, the State Advisory Council on Early Childhood Education and Care must include the State's Child Care and Development Fund (CCDF) administrator, State agency coordinators from both Part B section 619 and Part C of IDEA, and State agency representatives responsible for health and mental health.

(b) The State must continue to participate in the programs authorized under section 619 of Part B of IDEA and Part C of IDEA and in the CCDF program.

(c) States must continue to have an active MIECHV program (pursuant to section 511 of Title V of the Social Security Act, as added by section 2951 of the Affordable Care Act of 2010 (Pub. L. 111-148)) for the duration of the grant, whether operated by the State or by an eligible non-profit organization.

(d) The State is prohibited from spending funds from the grant on the direct delivery of health services.

(e) The State must participate in RTT-ELC grantee technical assistance activities facilitated by ED or HHS, individually or in collaboration with other State grantees in order to share effective program practices and solutions and collaboratively solve problems, and must set aside $400,000 from its grant funds for this purpose.

(f) The State must—

(1) Comply with the requirements of any evaluation sponsored by ED or HHS of any of the State's activities carried out with the grant;

(2) Comply with the requirements of any cross-State evaluation—as part of a consortium of States—of any of the State's proposed reforms, if that evaluation is coordinated or funded by ED or HHS, including by using common measures and data collection instruments and collecting data necessary to the evaluation;

(3) Together with its independent evaluator, if any, cooperate with any technical assistance regarding evaluations provided by ED or HHS. The purpose of this technical assistance will be to ensure that the validation of the State's Tiered Quality Rating and Improvement System and any other evaluations conducted by States or their independent evaluators, if any, are of the highest quality and to encourage commonality in approaches where such commonality is feasible and useful;

(4) Submit to ED and HHS for review and comment its design for the validation of its Tiered Quality Rating and Improvement System (as described in selection criterion (B)(5)) and any other evaluations of activities included in the State Plan, including any activities that are part of the State's Focused Investment Areas, as applicable; and

(5) Make widely available through formal (e.g., peer-reviewed journals) or informal (e.g., newsletters) mechanisms, and in print or electronically, the results of any evaluations it conducts of its funded activities.

(g) The State must have a longitudinal data system that includes the 12 elements described in section 6401(e)(2)(D) of the America COMPETES Act by the date required under the State Fiscal Stabilization Fund (SFSF) grant and in accordance with Indicator (b)(1) of its approved SFSF plan.

(h) The State must comply with the requirements of all applicable Federal, State, and local privacy laws, including the requirements of the Family Educational Rights and Privacy Act, the Health Insurance Portability Accountability Act, and the privacy requirements in IDEA, and their applicable regulations.

(i) The State must ensure that the grant activities are implemented in accordance with all applicable Federal, State, and local laws.

(j) The State must provide researchers with access, consistent with the requirements of all applicable Federal, State, and local privacy laws, to data from its Tiered Quality Rating and Improvement System and from the Statewide Longitudinal Data System and the State's coordinated early learning data system (if applicable) so that they can analyze the State's quality improvement efforts and answer key policy and practice questions.

(k) Unless otherwise protected as proprietary information by Federal or State law or a specific written agreement, the State must make any work (e.g., materials, tools, processes, systems) developed under its grant freely available to the public, including by posting the work on a Web site identified or sponsored by ED or HHS. Any Web sites developed under this grant must meet government or industry-recognized standards for accessibility (www.section508.gov/).

(l) Funds made available under an RTT-ELC grant must be used to supplement, not supplant, any Federal, State, or local funds that, in the absence of the funds awarded under this grant, would be available for increasing access to and improving the quality of Early Learning and Development Programs.

(m) For a State that is awarded an RTT-ELC grant, the State will have up to 90 days from the grant award notification date to complete final scopes of work for each Participating State Agency. These final scopes of work must contain detailed work plans that are consistent with their corresponding preliminary scopes of work and with the State's grant application, and must include the Participating State Agency's specific goals, activities, timelines, budgets, key personnel, and annual targets for key performance measures for the portions of the State's proposed plans that the Participating State Agency is agreeing to implement.

IV. Budget Requirements: The Secretaries establish the following budget requirements for States receiving funds under this competition. We may apply these requirements in any year in which this program is in effect.

Category 1—Up to $75 million—Florida, New York, Texas.

Category 2—Up to $52.5 million—Arizona, Georgia, Michigan, Pennsylvania.

Category 3—Up to $45 million—Alabama, Indiana, Kentucky, Louisiana, Missouri, New Jersey, Oklahoma, Puerto Rico, South Carolina, Tennessee, Virginia.

Category 4—Up to $37.5 million—Alaska, Arkansas, Connecticut, District of Columbia, Hawaii, Idaho, Iowa, Kansas, Maine, Mississippi, Montana, Nebraska, New Hampshire, Nevada, North Dakota, South Dakota, Utah, Vermont, West Virginia, Wyoming.

The State must include in its budget the amount of funds it intends to distribute through memoranda of understanding (MOUs), interagency agreements, contracts, subgrants, or other mechanisms authorized by State procurement laws, to localities, Early Learning Intermediary Organizations, Participating Programs, or other partners.

The State must set aside $400,000 from its grant funds for the purpose of participating in RTT-ELC grantee technical assistance activities facilitated by ED or HHS.

Final Definitions: The Secretaries establish the following definitions for this program. We may apply one or more of these definitions in any year in which this program is in effect.

Children with High Needs means children from birth through kindergarten entry who are from Low-Income families or otherwise in need of special assistance and support, including children who have disabilities or developmental delays; who are English learners; who reside on “Indian lands” as that term is defined by section 8013(7) of the Elementary and Secondary Education Act of 1965, as amended (ESEA); who are migrant, homeless, or in foster care; and other children as identified by the State.

Common Education Data Standards (CEDS) means voluntary, common standards for a key set of education data elements (e.g., demographics, program participation, transition, course information) at the early learning, K-12, and postsecondary levels developed through a national collaborative effort being led by the National Center for Education Statistics. CEDS focus on standard definitions, code sets, and technical specifications of a subset of key data elements and are designed to increase data interoperability, portability, and comparability across Early Learning and Development Programs and agencies, States, local educational agencies, and postsecondary institutions.

Comprehensive Assessment System means a coordinated and comprehensive system of multiple assessments, each of which is valid and reliable for its specified purpose and for the population with which it will be used, that organizes information about the process and context of young children's learning and development in order to help Early Childhood Educators make informed instructional and programmatic decisions and that conforms to the recommendations of the National Research Council reports on early childhood.

A Comprehensive Assessment System includes, at a minimum—

(a) Screening Measures;

(b) Formative Assessments;

(c) Measures of Environmental Quality; and

(d) Measures of the Quality of Adult-Child Interactions.

Data System Oversight Requirements means policies for ensuring the quality, privacy, and integrity of data contained in a data system, including—

(a) A data governance policy that identifies the elements that are collected and maintained; provides for training on internal controls to system users; establishes who will have access to the data in the system and how the data may be used; sets appropriate internal controls to restrict access to only authorized users; sets criteria for determining the legitimacy of data requests; establishes processes that verify the accuracy, completeness, and age of the data elements maintained in the system; sets procedures for determining the sensitivity of each inventoried element and the risk of harm if those data were improperly disclosed; and establishes procedures for disclosure review and auditing; and

(b) A transparency policy that informs the public, including families, Early Childhood Educators, and programs, of the existence of data systems that house personally identifiable information, explains what data elements are included in such a system, enables parental consent to disclose personally identifiable information as appropriate, and describes allowable and potential uses of the data.

Early Childhood Educator means any professional working in an Early Learning and Development Program, including but not limited to center-based and family child care providers; infant and toddler specialists; early intervention specialists and early childhood special educators; home visitors; related services providers; administrators such as directors, supervisors, and other early learning and development leaders; Head Start teachers; Early Head Start teachers; preschool and other teachers; teacher assistants; family service staff; and health coordinators.

Early Learning and Development Program means any (a) State-licensed or State-regulated program or provider, regardless of setting or funding source, that provides early care and education for children from birth to kindergarten entry, including, but not limited to, any program operated by a child care center or in a family child care home; (b) preschool program funded by the Federal Government or State or local educational agencies (including any IDEA-funded program); (c) Early Head Start and Head Start program; and (d) a non-relative child care provider who is not otherwise regulated by the State and who regularly cares for two or more unrelated children for a fee in a provider setting. A State should include in this definition other programs that may deliver early learning and development services in a child's home, such as the MIECHV; Early Head Start; and Part C of IDEA.⁴

⁴ Note: Such home-based programs and services will most likely not participate in the State's Tiered Quality Rating and Improvement System unless the State has developed a set of tiered Program Standards specifically for home-based programs and services.

Early Learning and Development Standards means a set of expectations, guidelines, or developmental milestones that—

(a) Describe what all children from birth to kindergarten entry should know and be able to do and their disposition toward learning;

(b) Are appropriate for each age group (e.g., infants, toddlers, and preschoolers); for English learners; and for children with disabilities or developmental delays;

(c) Cover all Essential Domains of School Readiness; and

(d) Are universally designed and developmentally, culturally, and linguistically appropriate.

Early Learning Intermediary Organization means a national, statewide, regional, or community-based organization that represents one or more networks of Early Learning and Development Programs in the State and that has influence or authority over them. Such Early Learning Intermediary Organizations include, but are not limited to, Child Care Resource and Referral Agencies; State Head Start Associations; Family Child Care Associations; State affiliates of the National Association for the Education of Young Children; State affiliates of the Council for Exceptional Children's Division of Early Childhood; statewide or regional union affiliates that represent Early Childhood Educators; affiliates of the National Migrant and Seasonal Head Start Association; the National Tribal, American Indian, and Alaskan Native Head Start Association; and the National Indian Child Care Association.

Essential Data Elements means the critical child, program, and workforce data elements of a coordinated early learning data system, including—

(a) A unique statewide child identifier or another highly accurate, proven method to link data on that child, including Kindergarten Entry Assessment data, to and from the Statewide Longitudinal Data System and the coordinated early learning data system (if applicable);

(b) A unique statewide Early Childhood Educator identifier;

(c) A unique program site identifier;

(d) Child and family demographic information, including indicators identifying the criteria that States use to determine whether a child is a Child with High Needs;

(e) Early Childhood Educator demographic information, including data on educational attainment and State credential or licenses held, as well as professional development information;

(f) Program-level data on the program's structure, quality, child suspension and expulsion rates, staff retention, staff compensation, work environment, and all applicable data reported as part of the State's Tiered Quality Rating and Improvement System; and

(g) Child-level program participation and attendance data.

Essential Domains of School Readiness means the domains of language and literacy development, cognition and general knowledge (including early mathematics and early scientific development), approaches toward learning, physical well-being and motor development (including adaptive skills), and social and emotional development.

Formative Assessment (also known as a classroom-based or ongoing assessment) means assessment questions, tools, and processes—

(a) That are—

(1) Specifically designed to monitor children's progress in meeting the Early Learning and Development Standards;

(2) Valid and reliable for their intended purposes and their target populations; and

(3) Linked directly to the curriculum; and

(b) The results of which are used to guide and improve instructional practices.

High-Quality Plan means any plan developed by the State to address a selection criterion or priority in this notice that is feasible and has a high probability of successful implementation and at a minimum includes—

(a) The key goals;

(b) The key activities to be undertaken; the rationale for the activities; and, if applicable, where in the State the activities will be initially implemented, and where and how they will be scaled up over time to eventually achieve statewide implementation;

(c) A realistic timeline, including key milestones, for implementing each key activity;

(d) The party or parties responsible for implementing each activity and other key personnel assigned to each activity;

(e) Appropriate financial resources to support successful implementation of the plan;

(f) The information requested as supporting evidence, if any, together with any additional information the State believes will be helpful to peer reviewers in judging the credibility of the plan;

(g) The information requested in the performance measures, where applicable;

(h) How the State will address the needs of the different types of Early Learning and Development Programs, if applicable; and

(i) How the State will meet the needs of Children with High Needs.

Kindergarten Entry Assessment means an assessment that—

(a) Is administered to children during the first few months of their admission into kindergarten;

(b) Covers all Essential Domains of School Readiness;

(c) Is used in conformance with the recommendations of the National Research Council ⁵ reports on early childhood; and

⁵ National Research Council. (2008). Early Childhood Assessment: Why, What, and How. Committee on Developmental Outcomes and Assessments for Young Children, C.E. Snow and S.B. Van Hemel, Editors. Board on Children, Youth, and Families, Board on Testing and Assessment, Division of Behavioral and Social Sciences and Education. Washington, DC: The National Academies Press. www.nap.edu/catalog.php?record_id=12446.

(d) Is valid and reliable for its intended purposes and for the target populations and aligned to the Early Learning and Development Standards.

Results of the assessment should be used to inform efforts to close the school readiness gap at kindergarten entry, to inform instruction in the early elementary school grades, and to inform parents about their children's status and involve them in decisions about their children's education. This assessment must not be used to prevent children's entry into kindergarten or as a single measure for high-stakes decisions.

Lead Agency means the State-level agency designated by the Governor for the administration of the RTT-ELC grant; this agency is the fiscal agent for the grant. The Lead Agency must be one of the Participating State Agencies.

Low-Income means having an income of up to 200 percent of the Federal poverty rate.

Measures of Environmental Quality means valid and reliable indicators of the overall quality of the early learning environment.

Measures of the Quality of Adult-Child Interactions means the measures obtained through valid and reliable processes for observing how teachers and caregivers interact with children, where such processes are designed to promote child learning and to identify strengths of and areas for improvement for early learning professionals.

Participating Program means an Early Learning and Development Program that elects to carry out activities described in the State Plan.

Participating State Agency means a State agency that administers public funds related to early learning and development and is participating in the State Plan. The following State agencies are required Participating State Agencies: the agencies that administer or supervise the administration of CCDF, the section 619 of Part B of IDEA and Part C of IDEA programs, State-funded preschool, home visiting, Title I of ESEA, the Head Start State Collaboration Grant, and the Title V Maternal and Child Health Services Block Grant, the State's Child Care Licensing Agency, and the State educational agency. Other State agencies, such as the agencies that administer or supervise the administration of Child Welfare, Mental Health, Temporary Assistance for Needy Families (TANF), Community-Based Child Abuse Prevention, the Child and Adult Care Food Program, and the Adult Education and Family Literacy Act, may be Participating State Agencies if they elect to participate in the State Plan as well as the State Advisory Council on Early Childhood Education and Care.

Program Standards means the standards that serve as the basis for a Tiered Quality Rating and Improvement System and define differentiated levels of quality for Early Learning and Development Programs. Program Standards are expressed, at a minimum, by the extent to which—

(a) Early Learning and Development Standards are implemented through evidence-based activities, interventions, or curricula that are appropriate for each age group of infants, toddlers, and preschoolers;

(b) Comprehensive Assessment Systems are used routinely and appropriately to improve instruction and enhance program quality by providing robust and coherent evidence of—

(1) Children's learning and development outcomes; and

(2) Program performance;

(c) A qualified workforce improves young children's health, social, emotional, and educational outcomes;

(d) Culturally and linguistically responsive strategies are successfully used to engage families, help them build protective factors, and strengthen their capacity to support their children's development and learning. These strategies may include, but are not limited to, parent access to the program, ongoing two-way communication with families, parent education in child development, outreach to fathers and other family members, training and support for families as children move to preschool and kindergarten, social networks of support, intergenerational activities, linkages with community supports and adult and family literacy programs, parent involvement in decision making, and parent leadership development;

(e) Health promotion practices include health and safety requirements; developmental, behavioral, and sensory screening, referral, and follow up; and the promotion of physical activity, healthy eating habits, oral health and behavioral health, and health literacy among parents; and

(f) Effective data practices include gathering Essential Data Elements and entering them into the State's Statewide Longitudinal Data System or other early learning data system, using these data to guide instruction and program improvement, and making this information readily available to families.

Screening Measures means age and developmentally appropriate, valid, and reliable instruments that are used to identify children who may need follow-up services to address developmental, learning, or health needs in, at a minimum, the areas of physical health, behavioral health, oral health, child development, vision, and hearing.

State means any of the 50 States, the District of Columbia, and Puerto Rico.

State Plan means the plan submitted as part of the State's RTT-ELC application.

Statewide Longitudinal Data System means the State's longitudinal education data system that collects and maintains detailed, high-quality, student- and staff-level data that are linked across entities and that over time provide a complete academic and performance history for each student. The Statewide Longitudinal Data System is typically housed within the State educational agency but includes or can be connected to early childhood, postsecondary, and labor data.

Tiered Quality Rating and Improvement System means the system through which the State uses a set of progressively higher Program Standards to evaluate the quality of an Early Learning and Development Program and to support program improvement. A Tiered Quality Rating and Improvement System consists of four components: (a) Tiered Program Standards with multiple rating categories that clearly and meaningfully differentiate program quality levels; (b) monitoring to evaluate program quality based on the Program Standards; (c) supports to help programs meet progressively higher standards (e.g., through training, technical assistance, financial support); and (d) program quality ratings that are publically available; and includes a process for validating the system.

Workforce Knowledge and Competency Framework means a set of expectations that describes what Early Childhood Educators (including those working with children with disabilities and English learners) should know and be able to do. The Workforce Knowledge and Competency Framework, at a minimum, (a) Is evidence based; (b) incorporates knowledge and application of the State's Early Learning and Development Standards, the Comprehensive Assessment Systems, child development, health, and culturally and linguistically appropriate strategies for working with families; (c) includes knowledge of early mathematics and literacy development and effective instructional practices to support mathematics and literacy development in young children; (d) incorporates effective use of data to guide instruction and program improvement; (e) includes effective behavior management strategies that promote positive social and emotional development and reduce challenging behaviors; (f) incorporates feedback from experts at the State's postsecondary institutions and other early learning and development experts and Early Childhood Educators; and (g) includes knowledge of protective factors and effective approaches to partnering with families and building families' knowledge, skills, and capacity to promote children's health and development.

Final Selection Criteria: The Secretaries establish the following selection criteria for evaluating an application under this program. We may apply one or more of these criteria in any year in which this program is in effect. The Secretaries may use:

• One or more of the selection criteria established in this notice of final priorities, requirements, definitions, and selection criteria;

• Any of the selection criteria in 34 CFR 75.210;

• Criteria based on the statutory requirements for the RTT-ECL program in accordance with 34 CFR 75.209; or

• Any combination of these when establishing selection criteria for any RTT-ELC competition.

The Secretaries may further define each criterion by selecting specific factors for it. The Secretaries may select these factors from any selection criterion in the list below. In the notice inviting applications published elsewhere in this issue of the Federal Register, we announce the specific selection criteria that apply to a competition and the maximum possible points assigned to each criterion.

Core Areas—Sections (A) (Successful State Systems) and (B) (High-Quality, Accountable Programs)

States must address in their application all of the selection criteria in the Core Areas—Sections (A) (Successful State Systems) and (B) (High-Quality, Accountable Programs).

A. Successful State Systems

(A)(1) Demonstrating Past Commitment to Early Learning and Development

The extent to which the State has demonstrated past commitment to and investment in high-quality, accessible Early Learning and Development Programs and services for Children with High Needs, as evidenced by the State's—

(a) Financial investment, from five years ago to the present, in Early Learning and Development Programs, including the amount of these investments in relation to the size of the State's population of Children with High Needs during this time period;

(b) Increasing, from the previous five years to the present, the number of Children with High Needs participating in Early Learning and Development Programs;

(c) Existing early learning and development legislation, policies, or practices; and

(d) Current status in key areas that form the building blocks for a high-quality early learning and development system, including Early Learning and Development Standards, Comprehensive Assessment Systems, health promotion practices, family engagement strategies, the development of Early Childhood Educators, Kindergarten Entry Assessments, and effective data practices.

Evidence for (A)(1):

• The number and percentage of children from Low-Income families in the State, by age.

• The number and percentage of Children with High Needs from special populations in the State.

• The number of Children with High Needs in the State who are enrolled in Early Learning and Development Programs, by age, race, and ethnicity.

• Data currently available, if any, on the status of children at kindergarten entry (across Essential Domains of School Readiness, if available), including data on the readiness gap between Children with High Needs and their peers.

• Data currently available, if any, on program quality across different types of Early Learning and Development Programs.

• The number of Children with High Needs participating in each type of Early Learning and Development Program for each of the previous five years to the present.

• The number of Children with High Needs participating in each type of Early Learning and Development Program for each of the previous five years to the present.

• The current status of the State's Early Learning and Development Standards, for each of the Essential Domains of School Readiness, by age group of infants, toddlers, and preschoolers.

• The elements of a Comprehensive Assessment System currently required within the State by different types of Early Learning and Development Programs or systems.

• The elements of high-quality health promotion practices currently required within the State by different types of Early Learning and Development Programs or systems.

• The elements of a high-quality family engagement strategy currently required within the State by different types of Early Learning and Development Programs or systems.

• All early learning and development workforce credentials currently available in the State, including whether credentials are aligned with a State Workforce Knowledge and Competency Framework and the number and percentage of Early Childhood Educators who have each type of credential.

• The current status of postsecondary institutions and other professional development providers in the State that issue credentials or degrees to Early Childhood Educators.

• The current status of the State's Kindergarten Entry Assessment.

• All early learning and development data systems currently used in the State.

Performance Measures for (A)(1):

• None required.

(A)(2) Articulating the State's Rationale for Its Early Learning and Development Reform Agenda and Goals

The extent to which the State clearly articulates a comprehensive early learning and development reform agenda that is ambitious yet achievable, builds on the State's progress to date (as demonstrated in selection criterion (A)(1)), is likely to result in improved school readiness for Children with High Needs, and includes—

(a) Ambitious yet achievable goals for improving program quality, improving outcomes for Children with High Needs statewide, and closing the educational gaps between Children with High Needs and their peers;

(b) An overall summary of the State Plan that clearly articulates how the High-Quality Plans proposed under each selection criterion, when taken together, constitute an effective reform agenda that establishes a clear and credible path toward achieving these goals; and

(c) A specific rationale that justifies the State's choice to address the selected criteria in each Focused Investment Area (C), (D), and (E), including why these selected criteria will best achieve these goals.

Evidence for (A)(2):

• The State's goals for improving program quality statewide over the period of this grant.

• The State's goals for improving child outcomes statewide over the period of this grant.

• The State's goals for closing the readiness gap between Children with High Needs and their peers at kindergarten entry.

• Identification of the two or more selection criteria that the State has chosen to address in Focused Investment Area (C).

• Identification of the one or more selection criteria that the State has chosen to address in Focused Investment Area (D).

• Identification of the one or more selection criteria that the State has chosen to address in Focused Investment Area (E).

• For each Focused Investment Area (C), (D), and (E), a description of the State's rationale for choosing to address the selected criteria in that Focused Investment Area, including how the State's choices build on its progress to date in each Focused Investment Area (as outlined in the narrative under (A)(1) in the application) and why these selected criteria will best achieve the State's ambitious yet achievable goals for improving program quality, improving outcomes for Children with High Needs statewide, and closing the educational gap between Children with High Needs and their peers.

Performance Measures for (A)(2):

• None required.

(A)(3) Aligning and Coordinating Early Learning and Development Across the State

The extent to which the State has established, or has a High-Quality Plan to establish, strong participation in and commitment to the State Plan by Participating State Agencies and other early learning and development stakeholders by—

(a) Demonstrating how the Participating State Agencies and other partners, if any, will identify a governance structure for working together that will facilitate interagency coordination, streamline decision making, effectively allocate resources, and create long-term sustainability, and describing—

(1) The organizational structure for managing the grant and how it builds upon existing interagency governance structures such as children's cabinets, councils, and commissions, if any already exist and are effective;

(2) The governance-related roles and responsibilities of the Lead Agency, the State Advisory Council on Early Childhood Education and Care, each Participating State Agency, and the State's Interagency Coordinating Council for Part C of IDEA, and other partners, if any;

(3) The method and process for making different types of decisions (e.g., policy, operational) and resolving disputes; and

(4) The plan for when and how the State will involve representatives from Participating Programs, Early Childhood Educators or their representatives, parents and families, including parents and families of Children with High Needs, and other key stakeholders in the planning and implementation of the activities carried out under the grant;

(b) Demonstrating that the Participating State Agencies are strongly committed to the State Plan, to the governance structure of the grant, and to effective implementation of the State Plan, by including in the MOUs or other binding agreements between the State and each Participating State Agency—

(1) Terms and conditions that reflect a strong commitment to the State Plan by each Participating State Agency, including terms and conditions designed to align and leverage the Participating State Agencies' existing funding to support the State Plan;

(2) “Scope-of-work” descriptions that require each Participating State Agency to implement all applicable portions of the State Plan and a description of efforts to maximize the number of Early Learning and Development Programs that become Participating Programs; and

(3) A signature from an authorized representative of each Participating State Agency; and

(c) Demonstrating commitment to the State Plan from a broad group of stakeholders that will assist the State in reaching the ambitious yet achievable goals outlined in response to selection criterion (A)(2)(a), including by obtaining—

(1) Detailed and persuasive letters of intent or support from Early Learning Intermediary Organizations, and, if applicable, local early learning councils; and

(2) Letters of intent or support from such other stakeholders as Early Childhood Educators or their representatives; the State's legislators; local community leaders; State or local school boards; representatives of private and faith-based early learning programs; other State and local leaders (e.g., business, community, tribal, civil rights, education association leaders); adult education and family literacy State and local leaders; family and community organizations; representatives from the disability community, the English learner community, and entities representing other Children with High Needs (e.g., parent councils, nonprofit organizations, local foundations, tribal organizations, and community-based organizations); libraries and children's museums; health providers; public television stations; and postsecondary institutions.

Evidence for (A)(3)(a) and (b):

• For (A)(3)(a)(1): An organizational chart that shows how the grant will be governed and managed.

• Governance-related roles and responsibilities.

• A copy of all fully executed MOUs or other binding agreements that cover each Participating State Agency. (MOUs or other binding agreements should be referenced in the narrative but must be included in the Appendix to the application).

Evidence for (A)(3)(c)(1):

• A list of every Early Learning Intermediary Organization and local early learning council (if applicable) in the State that indicates which organizations and councils have submitted letters of intent or support.

• A copy of every letter of intent or support from Early Learning Intermediary Organizations and local early learning councils.

Evidence for (A)(3)(c)(2):

• A copy of every letter of intent or support from other stakeholders.

Performance Measures for (A)(3):

• None required.

(A)(4) Developing a Budget To Implement and Sustain the Work of This Grant

The extent to which the State Plan—

(a) Demonstrates how the State will use existing funds that support early learning and development from Federal, State, private, and local sources (e.g., CCDF; Title I and II of ESEA; IDEA; Striving Readers Comprehensive Literacy Program; State preschool; Head Start Collaboration funding; MIECHV program; Title V MCH Block Grant; TANF; Medicaid; child welfare services under Title IV (B) and (E) of the Social Security Act; Statewide Longitudinal Data System; foundation; other private funding sources) for activities and services that help achieve the outcomes in the State Plan, including how the quality set-asides in CCDF will be used;

(b) Describes, in both the budget tables and budget narratives, how the State will effectively and efficiently use funding from this grant to achieve the outcomes in the State Plan, in a manner that—

(1) Is adequate to support the activities described in the State Plan;

(2) Includes costs that are reasonable and necessary in relation to the objectives, design, and significance of the activities described in the State Plan and the number of children to be served; and

(3) Details the amount of funds budgeted for Participating State Agencies, localities, Early Learning Intermediary Organizations, Participating Programs, or other partners, and the specific activities to be implemented with these funds consistent with the State Plan, and demonstrates that a significant amount of funding will be devoted to the local implementation of the State Plan; and

(c) Demonstrates that it can be sustained after the grant period ends to ensure that the number and percentage of Children with High Needs served by Early Learning and Development Programs in the State will be maintained or expanded.

Evidence for (A)(4)(a):

• The existing funds to be used to achieve the outcomes in the State Plan.

• Description of how these existing funds will be used for activities and services that help achieve the outcomes in the State Plan.

Evidence for (A)(4)(b):

• The State's budget.

• The narratives that accompany and explain the budget and describe how it connects to the State Plan.

Performance Measures for (A)(4):

• None required.

B. High-Quality, Accountable Programs

(B)(1) Developing and Adopting a Common, Statewide Tiered Quality Rating and Improvement System

The extent to which the State and its Participating State Agencies have developed and adopted, or have a High-Quality Plan to develop and adopt, a Tiered Quality Rating and Improvement System that—

(a) Is based on a statewide set of tiered Program Standards that include—

(1) Early Learning and Development Standards;

(2) A Comprehensive Assessment System;

(3) Early Childhood Educator qualifications;

(4) Family engagement strategies;

(5) Health promotion practices; and

(6) Effective data practices;

(b) Is clear and has standards that are measurable, meaningfully differentiate program quality levels, and reflect high expectations of program excellence commensurate with nationally recognized standards that lead to improved learning outcomes for children; and

(c) Is linked to the State licensing system for Early Learning and Development Programs.

Evidence for (B)(1):

• Each set of existing Program Standards currently used in the State and the elements that are included in those Program Standards (Early Learning and Development Standards, Comprehensive Assessment Systems, Qualified Workforce, Family Engagement, Health Promotion, Effective Data Practices, and Other).

• To the extent the State has developed and adopted a Tiered Quality Rating and Improvement System based on a common set of tiered Program Standards that meet the elements in selection criterion (B)(1)(a), submit—

○ A copy of the tiered Program Standards;

○ Documentation that the Program Standards address all areas outlined in the definition of Program Standards, demonstrate high expectations of program excellence commensurate with nationally recognized standards, and are linked to the States licensing system; and

○ Documentation of how the tiers meaningfully differentiate levels of quality.

Performance Measures for (B)(1):

• None required.

(B)(2) Promoting Participation in the State's Tiered Quality Rating and Improvement System

The extent to which the State has maximized, or has a High-Quality Plan to maximize, program participation in the State's Tiered Quality Rating and Improvement System by—

(a) Implementing effective policies and practices to reach the goal of having all publicly funded Early Learning and Development Programs participate in such a system, including programs in each of the following categories—

(1) State-funded preschool programs;

(2) Early Head Start and Head Start programs;

(3) Early Learning and Development Programs funded under section 619 of Part B of IDEA and Part C of IDEA;

(4) Early Learning and Development Programs funded under Title I of ESEA; and

(5) Early Learning and Development Programs receiving funds from the State's CCDF program;

(b) Implementing effective policies and practices designed to help more families afford high-quality child care and maintain the supply of high-quality child care in areas with high concentrations of Children with High Needs (e.g., maintaining or increasing subsidy reimbursement rates, taking actions to ensure affordable co-payments, providing incentives to high-quality providers to participate in the subsidy program); and

(c) Setting ambitious yet achievable targets for the numbers and percentages of Early Learning and Development Programs that will participate in the Tiered Quality Rating and Improvement System by type of Early Learning and Development Program (as listed in (B)(2)(a)(1) through (5) above).

Evidence for (B)(2):

• Any supporting evidence the State believes will be helpful to peer reviewers.

Performance Measures for (B)(2)(c):

General goals to be provided at time of application, including baseline data and annual targets:

• Number and percentage of Early Learning and Development Programs participating in the statewide Tiered Quality Rating and Improvement System, by type of Early Learning and Development Program.

(B)(3) Rating and Monitoring Early Learning and Development Programs

The extent to which the State and its Participating State Agencies have developed and implemented, or have a High-Quality Plan to develop and implement, a system for rating and monitoring the quality of Early Learning and Development Programs participating in the Tiered Quality Rating and Improvement System by—

(a) Using a valid and reliable tool for monitoring such programs, having trained monitors whose ratings have an acceptable level of inter-rater reliability, and monitoring and rating the Early Learning and Development Programs with appropriate frequency; and

(b) Providing quality rating and licensing information to parents with children enrolled in Early Learning and Development Programs (e.g., displaying quality rating information at the program site) and making program quality rating data, information, and licensing history (including any health and safety violations) publicly available in formats that are written in plain language, and are easy to understand and use for decision making by families selecting Early Learning and Development Programs and families whose children are enrolled in such programs.

Evidence for (B)(3):

• Any supporting evidence the State believes will be helpful to peer reviewers.

Performance Measures for (B)(3):

• None required.

(B)(4) Promoting Access to High-Quality Early Learning and Development Programs for Children With High Needs

The extent to which the State and its Participating State Agencies have developed and implemented, or have a High-Quality Plan to develop and implement, a system for improving the quality of the Early Learning and Development Programs participating in the Tiered Quality Rating and Improvement System by—

(a) Developing and implementing policies and practices that provide support and incentives for Early Learning and Development Programs to continuously improve (e.g., through training, technical assistance, financial rewards or incentives, higher subsidy reimbursement rates, compensation);

(b) Providing supports to help working families who have Children with High Needs access high-quality Early Learning and Development Programs that meet those needs (e.g., providing full-day, full-year programs; transportation; meals; family support services); and

(c) Setting ambitious yet achievable targets for increasing—

(1) The number of Early Learning and Development Programs in the top tiers of the Tiered Quality Rating and Improvement System; and

(2) The number and percentage of Children with High Needs who are enrolled in Early Learning and Development Programs that are in the top tiers of the Tiered Quality Rating and Improvement System.

Evidence for (B)(4):

• Any supporting evidence the State believes will be helpful to peer reviewers.

Performance Measures for (B)(4)(c):

General goals to be provided at time of application, including baseline data and annual targets:

• Number of Early Learning and Development Programs in the top tiers of the Tiered Quality Rating and Improvement System, by type of Early Learning and Development Program.

• Number and Percentage of Children with High Needs who are enrolled in Early Learning and Development Programs that are in the top tiers of the Tiered Quality Rating and Improvement System, by type of Early Learning and Development Program.

(B)(5) Validating the Effectiveness of State Tiered Quality Rating and Improvement Systems

The extent to which the State has a High-Quality Plan to design and implement evaluations—working with an independent evaluator and, when warranted, as part of a cross-State evaluation consortium—of the relationship between the ratings generated by the State's Tiered Quality Rating and Improvement System and the learning outcomes of children served by the State's Early Learning and Development Programs by—

(a) Validating, using research-based measures, as described in the State Plan (which also describes the criteria that the State used or will use to determine those measures), that the tiers in the State's Tiered Quality Rating and Improvement System accurately reflect differential levels of program quality; and

(b) Assessing, using appropriate research designs and measures of progress (as identified in the State Plan), the extent to which changes in quality ratings are related to progress in children's learning, development, and school readiness.

Evidence for (B)(5):

• Any supporting evidence the State believes will be helpful to peer reviewers.

Performance Measures for (B)(5):

• None required.

Focused Investment Areas—Sections (C), (D), and (E)

Each State must address in its application—

(1) Two or more of the selection criteria in Focused Investment Area (C);

(2) One or more of the selection criteria in Focused Investment Area (D); and

(3) One or more of the selection criteria in Focused Investment Area (E).

C. Promoting Early Learning and Development Outcomes for Children

The applicant must address at least two of the selection criteria within Focused Investment Area (C), which are as follows:

(C)(1) Developing and Using Statewide, High-Quality Early Learning and Development Standards

The extent to which the State has a High-Quality Plan to put in place high-quality Early Learning and Development Standards that are used statewide by Early Learning and Development Programs and that—

(a) Includes evidence that the Early Learning and Development Standards are developmentally, culturally, and linguistically appropriate across each age group of infants, toddlers, and preschoolers, and that they cover all Essential Domains of School Readiness;

(b) Includes evidence that the Early Learning and Development Standards are aligned with the State's K-3 academic standards in, at a minimum, early literacy and mathematics;

(c) Includes evidence that the Early Learning and Development Standards are incorporated in Program Standards, curricula and activities, Comprehensive Assessment Systems, the State's Workforce Knowledge and Competency Framework, and professional development activities; and that they are shared with parents and families along with suggestions for appropriate strategies they can use at home to support their children's learning and development; and

(d) Includes evidence that the State has supports in place to promote understanding of and commitment to the Early Learning and Development Standards across Early Learning and Development Programs.

Evidence for (C)(1)(a) and (b):

• To the extent the State has implemented Early Learning and Development Standards that meet the elements in selection criteria (C)(1)(a) and (b), submit—

○ Proof of use by all types of Early Learning and Development Programs in the State;

○ The State's Early Learning and Development Standards for:

—Infants and toddlers

—Preschoolers

○ Documentation that the standards are developmentally, linguistically, and culturally appropriate for all children, including children with disabilities and developmental delays and English learners;

○ Documentation that the standards address all Essential Domains of School Readiness and that they are of high quality; and

○ Documentation of the alignment between the State's Early Learning and Development Standards and the State's K-3 standards.

Performance Measures for (C)(1):

• None required.

(C)(2) Supporting Effective Uses of Comprehensive Assessment Systems

The extent to which the State has a High-Quality Plan to support the effective implementation of developmentally appropriate Comprehensive Assessment Systems by—

(a) Working with Early Learning and Development Programs to select assessment instruments and approaches that are appropriate for the target populations and purposes;

(b) Working with Early Learning and Development Programs to strengthen Early Childhood Educators' understanding of the purposes and uses of each type of assessment included in the Comprehensive Assessment Systems;

(c) Articulating an approach for aligning and integrating assessments and sharing assessment results, as appropriate, in order to avoid duplication of assessments and to coordinate services for Children with High Needs who are served by multiple Early Learning and Development Programs;

(d) Training Early Childhood Educators to appropriately administer assessments and interpret and use assessment data in order to inform and improve instruction, programs, and services, and to effectively solicit and use family input on children's development and needs; and

(e) Articulating guidelines and procedures for sharing assessment data and results with parents, involving them in decisions about their children's care and education, and helping them identify concrete actions they can take to address developmental issues identified through the assessment process.

Evidence for (C)(2):

• Any supporting evidence the State believes will be helpful to peer reviewers.

Performance Measures for (C)(2):

• None required.

(C)(3) Identifying and Addressing the Health, Behavioral, and Developmental Needs of Children with High Needs To Improve School Readiness

The extent to which the State has a High-Quality Plan to identify and address the health, behavioral, and developmental needs of Children with High Needs by—

(a) Establishing a progression of standards for ensuring children's health and safety; ensuring that health and behavioral screening and follow-up occur; promoting children's physical, social, and emotional development across the levels of its Program Standards; and involving families as partners and building parents' capacity to promote their children's physical, social, and emotional health;

(b) Increasing the number of Early Childhood Educators who are trained and supported on an ongoing basis in meeting the health standards;

(c) Promoting healthy eating habits, improving nutrition, expanding physical activity, and providing information and guidance to families to promote healthy habits at home;

(d) Leveraging existing resources to meet ambitious yet achievable annual targets to increase the number of Children with High Needs who—

(1) Are screened using Screening Measures that align with the Medicaid Early Periodic Screening, Diagnostic and Treatment benefit (see section 1905(r)(5) of the Social Security Act) or the well-baby and well-child services available through the Children's Health Insurance Program (42 CFR 457.520), and that, as appropriate, are consistent with the Child Find provisions in IDEA (see sections 612(a)(3) and 635(a)(5) of IDEA);

(2) Are referred for services based on the results of those screenings and, where appropriate, received follow-up; and

(3) Participate in ongoing health care as part of a schedule of well-child care, including the number of children who are up to date in a schedule of well-child care; and

(e) Developing a comprehensive approach to increase the capacity and improve the overall quality of Early Learning and Development Programs to support and address the social and emotional development (including infant-early childhood mental health) of children from birth to age five.

Evidence for (C)(3)(a):

• To the extent the State has established a progression of health standards across the levels of Program Standards that meet the elements in selection criterion (C)(3)(a), submit—

○ The progression of health standards used in the Program Standards and the State's plans for improvement over time, including documentation demonstrating that this progression of standards appropriately addresses health and safety standards; developmental, behavioral, and sensory screening, referral, and follow-up; health promotion including healthy eating habits, improved nutrition, and increased physical activity; oral health; social and emotional development; family involvement and capacity-building; and health literacy among parents and children.

Evidence for (C)(3)(b):

• To the extent the State has existing and projected numbers and percentages of Early Childhood Educators who receive training and support in meeting the health standards, the State must submit documentation of these data. If the State does not have these data, the State must outline its plan for deriving them.

Evidence for (C)(3)(c):

• Any supporting evidence the State believes will be helpful to peer reviewers.

Evidence for (C)(3)(d):

• Documentation of the State's existing and future resources that are or will be used to address the health, behavioral, and developmental needs of Children with High Needs. At a minimum, documentation must address the screening and referral of and follow-up for all Children with High Needs, and how families will be engaged in the process; how the State will promote the participation of Children with High Needs in ongoing health care as part of a schedule of well-child care; how the State will promote healthy eating habits and improved nutrition as well as increased physical activity for Children with High Needs; and how the State will promote health literacy for children and parents.

Performance Measures for (C)(3)(d):

General goals to be provided at time of application, including baseline data and annual targets:

• Number of Children with High Needs screened.

• Number of Children with High Needs referred for services and who received follow-up/treatment.

• Number of Children with High Needs who participate in ongoing health care as part of a schedule of well-child care.

• Of these participating Children with High Needs, the number or percentage of children who are up-to-date in receiving services as part of a schedule of well-child care.

Evidence for (C)(3)(e):

• Any supporting evidence the State believes will be helpful to peer reviewers.

(C)(4) Engaging and Supporting Families

The extent to which the State has a High-Quality Plan to provide culturally and linguistically appropriate information and support to families of Children with High Needs in order to promote school readiness for their children by—

(a) Establishing a progression of culturally and linguistically appropriate standards for family engagement across the levels of its Program Standards, including activities that enhance the capacity of families to support their children's education and development and help families build protective factors;

(b) Increasing the number and percentage of Early Childhood Educators trained and supported on an ongoing basis to implement the family engagement strategies included in the Program Standards; and

(c) Promoting family support and engagement statewide, including by leveraging other existing resources, such as home visiting programs, family resource centers, family support networks, and other family-serving agencies and organizations, and through outreach to family, friend, and neighbor caregivers.

Evidence for (C)(4)(a):

• To the extent the State has established a progression of family engagement standards across the levels of Program Standards that meet the elements in selection criterion (C)(4)(a), submit—

○ The progression of culturally and linguistically appropriate family engagement standards used in the Program Standards that includes strategies successfully used to engage families in supporting their children's development and learning. A State's family engagement standards must address, but need not be limited to: parent access to the program, ongoing two-way communication with families, parent education in child development, outreach to fathers and other family members, training and support for families as children move to preschool and kindergarten, social networks of support, intergenerational activities, linkages with community supports and adult and family literacy programs, parent involvement in decision making, and parent leadership development; and

○ Documentation that this progression of standards includes activities that enhance the capacity of families to support their children's education and development.

Evidence for (C)(4)(b):

• To the extent the State has existing and projected numbers and percentages of Early Childhood Educators who receive training and support on the family engagement strategies included in the Program Standards, the State must submit documentation of these data. If the State does not have these data, the State must outline its plan for deriving them.

Evidence for (C)(4)(c):

• Documentation of the State's existing resources that are or will be used to promote family support and engagement statewide, including through home visiting programs and other family-serving agencies and the identification of new resources that will be used to promote family support and engagement statewide.

Performance Measures for (C)(4)

• None required.

D. A Great Early Childhood Education Workforce

The applicant must address at least one of the selection criteria within Focused Investment Area (D), which are as follows:

(D)(1) Developing a Workforce Knowledge and Competency Framework and a Progression of Credentials

The extent to which the State has a High-Quality Plan to—

(a) Develop a common, statewide Workforce Knowledge and Competency Framework designed to promote children's learning and development and improve child outcomes;

(b) Develop a common, statewide progression of credentials and degrees aligned with the Workforce Knowledge and Competency Framework; and

(c) Engage postsecondary institutions and other professional development providers in aligning professional development opportunities with the State's Workforce Knowledge and Competency Framework.

Evidence for (D)(1):

• To the extent the State has developed a common, statewide Workforce Knowledge and Competency Framework that meets the elements in selection criterion (D)(1), submit:

○ The Workforce Knowledge and Competency Framework;

○ Documentation that the State's Workforce Knowledge and Competency Framework addresses the elements outlined in the definition of Workforce Knowledge and Competency Framework in the Final Definitions section of this notice and is designed to promote children's learning and development and improve outcomes.

Performance Measures for (D)(1)

• None required.

(D)(2) Supporting Early Childhood Educators in Improving Their Knowledge, Skills, and Abilities

The extent to which the State has a High-Quality Plan to improve the effectiveness and retention of Early Childhood Educators who work with Children with High Needs, with the goal of improving child outcomes by—

(a) Providing and expanding access to effective professional development opportunities that—

(1) Are aligned with the State's Workforce Knowledge and Competency Framework;

(2) Tightly link training with professional development approaches, such as coaching and mentoring; and

(3) Are supported by strong evidence (e.g., available evaluations, developmental theory, or data or information) as to why these policies and incentives will be effective in improving outcomes for Children with High Needs;

(b) Implementing effective policies and incentives (e.g., scholarships, compensation and wage supplements, tiered reimbursement rates, other financial incentives, management opportunities) to promote professional improvement and career advancement along an articulated career pathway that—

(1) Are aligned with the State's Workforce Knowledge and Competency Framework;

(2) Tightly link training with professional development approaches, such as coaching and mentoring; and

(3) Are supported by strong evidence (e.g., available evaluations, developmental theory, or data or information) as to why these policies and incentives will be effective in improving outcomes for Children with High Needs;

(c) Publicly reporting aggregated data on Early Childhood Educator development, advancement, and retention; and

(d) Setting ambitious yet achievable targets for—

(1) Increasing the number of postsecondary institutions and professional development providers with programs that are aligned to the Workforce Knowledge and Competency Framework and the number of Early Childhood Educators who receive credentials from postsecondary institutions and professional development providers with programs that are aligned to the Workforce Knowledge and Competency Framework; and

(2) Increasing the number and percentage of Early Childhood Educators who are progressing to higher levels of credentials that align with the Workforce Knowledge and Competency Framework.

Evidence for (D)(2):

• Evidence to support why the proposed professional development opportunities, policies, and incentives will be effective in improving outcomes for Children with High Needs (e.g., available evaluations, developmental theory, or data or information about the population of Children with High Needs in the State).

Performance Measures for (D)(2)(d):

General goals to be provided at time of application, including baseline data and annual targets:

• (D)(2)(d)(1): Number of postsecondary institutions and professional development providers with programs that are aligned to the State's Workforce Knowledge and Competency Framework, and the number of Early Childhood Educators receiving credentials from those aligned postsecondary institutions or professional development providers.

• (D)(2)(d)(2): Number and percentage of Early Childhood Educators who are progressing to higher levels of credentials that align with the State's Workforce Knowledge and Competency Framework.

E. Measuring Outcomes and Progress

The applicant must address at least one of the selection criteria within Focused Investment Area (E), which are as follows:

(E)(1) Understanding the Status of Children's Learning and Development at Kindergarten Entry

The extent to which the State has a High-Quality Plan to implement, independently or as part of a cross-State consortium, a common, statewide Kindergarten Entry Assessment that informs instruction and services in the early elementary grades and that—

(a) Is aligned with the State's Early Learning and Development Standards and covers all Essential Domains of School Readiness;

(b) Is valid, reliable, and appropriate for the target population and for the purpose for which it will be used, including for English learners and children with disabilities;

(c) Is administered beginning no later than the start of the school year ending during the fourth year of the grant to children entering a public school kindergarten; States may propose a phased implementation plan that forms the basis for broader statewide implementation;

(d) Is reported to the Statewide Longitudinal Data System, and to the early learning data system, if it is separate from the Statewide Longitudinal Data System, as permitted under and consistent with the requirements of Federal, State, and local privacy laws; and

(e) Is funded, in significant part, with Federal or State resources other than those available under this grant (e.g., with funds available under section 6111 or 6112 of ESEA).

Evidence for (E)(1):

• Any supporting evidence the State believes will be helpful to peer reviewers.

Performance Measures for (E)(1):

• None required.

(E)(2) Building or Enhancing an Early Learning Data System To Improve Instruction, Practices, Services, and Policies

The extent to which the State has a High-Quality Plan to enhance the State's existing Statewide Longitudinal Data System or to build or enhance a separate, coordinated, early learning data system that aligns and is interoperable with the Statewide Longitudinal Data System, and that either data system—

(a) Has all of the Essential Data Elements;

(b) Enables uniform data collection and easy entry of the Essential Data Elements by Participating State Agencies and Participating Programs;

(c) Facilitates the exchange of data among Participating State Agencies by using standard data structures, data formats, and data definitions such as Common Education Data Standards to ensure interoperability among the various levels and types of data;

(d) Generates information that is timely, relevant, accessible, and easy for Early Learning and Development Programs and Early Childhood Educators to use for continuous improvement and decision making and to share with parents and other community stakeholders; and

(e) Meets the Data System Oversight Requirements and complies with the requirements of Federal, State, and local privacy laws.

Evidence for (E)(2):

• Any supporting evidence the State believes will be helpful to peer reviewers.

Performance Measures for (E)(2):

• None required.

This notice does not preclude us from proposing additional priorities, requirements, definitions, or selection criteria, subject to meeting applicable rulemaking requirements.

Note: This notice does not solicit applications. In any year in which we choose to use one or more of these priorities, requirements, definitions, and selection criteria, we invite applications through a notice in the Federal Register.

Executive Orders 12866 and 13563

Regulatory Impact Analysis

Under Executive Order 12866, the Secretaries must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or local programs or the rights and obligations of recipients thereof; or

(4) Raise novel legal or policy issues arising out of legal mandates, the President's priorities, or the principles stated in the Executive order.

This final regulatory action will have an annual effect on the economy of more than $100 million because the Departments anticipate that the grants awarded will exceed that amount. Therefore, this final action is “economically significant” and subject to review by OMB under section 3(f)(1) of Executive Order 12866. Notwithstanding this determination, we have assessed the potential costs and benefits, both quantitative and qualitative, of this final regulatory action and have determined that the benefits justify the costs.

The Departments have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities, requirements, definitions, and selection criteria only on a reasoned determination that their benefits justify their costs. In choosing among alternative regulatory approaches, we selected those approaches that maximize net benefits.

Based on the analysis that follows, the Departments believe this regulatory action is consistent with the principles in Executive Order 13563.

We also have determined that this final regulatory action does not unduly interfere with State, local, and tribal governments in the exercise of their governmental functions.

In this regulatory impact analysis we discuss the need for regulatory action, the potential costs and benefits, net budget impacts, assumptions, limitations, and data sources, as well as regulatory alternatives we considered.

Need for Federal Regulatory Action

These priorities, requirements, definitions, and selection criteria are needed to implement the RTT-ELC award process in the manner that the Departments believe will best enable the program to achieve its objective—to create the conditions for effective reform in early learning systems in States.

Summary of Potential Costs and Benefits

The Secretaries believe that these final priorities, requirements, definitions, and selection criteria do not impose significant costs on eligible States. States that applied for a grant under the FY 2011 RTT-ELC competition reported that they found the application process to be useful in organizing their early childhood planning efforts because the priorities, requirements, definitions, and selection criteria provided them with direction and structure for developing a High-Quality Plan for a State Early Learning and Development Program. Several unfunded States then used their prepared application as their State's strategic early learning plan. In addition, the final priorities, requirements, definitions, and selection criteria, in particular those related to maintaining conditions of reform required under the FY 2011 RTT-ELC competition, require continuation of existing commitments and investments rather than the imposition of additional burdens and costs for applicant States. The Departments believe, therefore, that those States that previously applied but did not receive funding will incur minimal costs in developing an application.

In addition, because the Departments are maintaining the priorities, requirements, definitions, and selection criteria of the FY 2011 competition, States that did not previously apply can draw upon the posted applications and reviewer comments from the FY 2011 competition. These resources will minimize burden for all applicants. The Departments believe therefore that the benefits of developing an application for this competition outweigh the costs.

We believe that States will significantly benefit from the application process because it will require them to build strong relationships between State agencies and early learning non-profit organizations and consider how to use Federal, State, and local funding streams to best support early learning. A further benefit is that the final priorities, requirements, definitions, and selection criteria are expected to result in the selection of high-quality grantees that are most likely to successfully implement RTT-ELC grants in the manner that the Departments believe will best enable the program to achieve its objective of creating the conditions for effective reform in State early learning systems.

The final priorities, requirements, definitions, and selection criteria clarify the scope of activities the Secretaries expect to support with program funds. The pool of eligible applicants is limited to State applicants that have not previously received an RTT-ELC grant. Potential applicants need to consider carefully the effort that will be required to prepare a strong application, their capacity to implement projects successfully, and their chances of submitting a successful application.

Program participation is voluntary. The Secretaries believe that the costs imposed on applicants by these final priorities, requirements, definitions, and selection criteria are limited to paperwork burden related to preparing an application and that the benefits of implementing these proposals outweigh any costs incurred by applicants. The costs of carrying out activities associated with the application will be paid for with program funds. Thus, the costs of implementation will not be a burden for eligible applicants, including small entities.

Regulatory Alternatives Considered

An alternative to promulgating these priorities, requirements, definitions, and selection criteria would be to use FY 2013 Race to the Top funds to make awards to the remaining highest-scoring unfunded applications from the FY 2011 RTT-ELC competition. However, the Departments have determined that funding applications from the FY 2011 competition would result in funding applications that are likely outdated and of only moderate quality, having received fewer than 75 percent of the total points available in the FY 2011 competition. The Departments have determined that $280 million is a sufficient amount to hold a high-quality competition and that holding a new competition will result in higher-quality applications than those submitted in FY 2011, due to progress made in early learning systems during the last two years.

The Departments also could have decided to make significant changes to the priorities, requirements, definitions, and selection criteria from the FY 2011 competition. However, we have determined that making significant changes would be unduly burdensome on applicants who will rely on their FY 2011 efforts to prepare an updated application and that maintaining substantially the same priorities, requirements, definitions, and selection criteria will better enable the Departments to conduct an evaluation of the performance of grantees under the RTT-ELC program overall.

Accounting Statement

As required by OMB Circular A-4 (available at www.whitehouse.gov/sites/default/files/omb/assets/omb/circulars/a004/a-4.pdf), in the following table we have prepared an accounting statement showing the classification of the expenditures associated with the provisions of this regulatory action. This table provides our best estimate of the changes in annual monetized transfers as a result of this regulatory action. Expenditures are classified as transfers from the Federal Government to States.

Accounting Statement Classification of Estimated Expenditures
Category | Transfers
Annualized Monetized Transfers | $280,000,000.
From Whom To Whom? | From Federal Government to States.

Waiver of Congressional Review Act: These requirements have been determined to be a major rule for purposes of the Congressional Review Act (CRA) (5 U.S.C. 801, et seq.). Generally, under the CRA, a major rule takes effect 60 days after the date on which the rule is published in the Federal Register. Section 808(2) of the CRA, however, provides that any rule which an agency for good cause finds (and incorporates the finding and a brief statement of reasons therefor in the rule issued) that notice and public procedure thereon are impracticable, unnecessary, or contrary to the public interest, shall take effect at such time as the Federal agency promulgating the rule determines.

These final priorities, requirements, definitions, and selection criteria are needed to implement the RTT-ELC program, authorized under Sections 14005 and 14006, Division A, of the American Recovery and Reinvestment Act of 2009 (Pub. L. 111-5), as amended by section 1832(b) of Division B of Public Law 112-10, the Department of Defense and Full-Year Continuing Appropriations Act, 2011, and the Department of Education Appropriations Act, 2012, which was signed into law on December 23, 2011. The Departments must award funds under this authority to qualified applicants by December 31, 2013, or the funds will lapse. Even on an expedited timeline, it is impracticable for the Departments to adhere to a 60-day delayed effective date for the final priorities, requirements, definitions, and selection criteria and make grant awards to qualified applicants by the December 31, 2013 deadline. When the 60-day delayed effective date is added to the time the Departments will need to receive applications (approximately 45 days), review the applications (approximately 21 days), and finally approve applications (approximately 28 days), the Departments will not be able to award funds authorized under the Department of Education Appropriations Act, 2012 to applicants by December 31, 2013. The Departments have therefore determined that, pursuant to section 808(2) of the CRA, the 60-day delay in the effective date generally required for congressional review is impracticable, contrary to the public interest, and waived for good cause.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register is available via the Federal Digital System at www.gpo.gov/fdsys. At this site you can view this document, as well as all other documents of these Departments published in the Federal Register, in text or Adobe Portable Document Format (PDF). To use PDF you must have Adobe Acrobat Reader, which is available free at the site.

You may also access documents of these Departments published in the Federal Register by using the article search feature at www.federalregister.gov. Specifically, through the advanced search feature at this site, you can limit your search to documents published by these Departments.

Dated: August 26, 2013.
Deborah S. Delisle,
Assistant Secretary for Elementary and Secondary Education, U.S. Department of Education.
George H. Sheldon,
Acting Assistant Secretary for Children and Families, U.S. Department of Health and Human Services.

[FR Doc. 2013-21138 Filed 8-29-13; 8:45 am]

BILLING CODE 4000-01-P